DEPARTMENT OF HOMELAND SECURITY

Coast Guard

33 CFR Part 149

46 CFR Parts 2, 31, 32, 34, 35, 39, 56, 76, 77, 95, 96, 105, 107, 108, 109, 115, 116, 118, 132, 147, 159, 160, 161, 162, 163, 164, 167, 169, 181, 195, and 199

[Docket No. USCG-2020-0519]

RIN 1625-AC76

Marine Equipment on Board Vessels and Offshore Units or Facilities

AGENCY: Coast Guard, DHS.

ACTION: Final rule.

SUMMARY: The Coast Guard is revising regulations associated with the approval, carriage, and maintenance of certain safety equipment required on board vessels and offshore units or facilities. We are taking this action to align these regulations with current industry practice and provide more transparent regulations for the regulated industry. These revisions eliminate outdated requirements, reduce inspection and testing requirements, and update standards incorporated by reference. Additionally, these revisions remove obsolete sections and align conflicting sections with the International Convention for the Safety of Life at Sea.

DATES: This final rule is effective October 18, 2024.

The incorporation by reference of certain publications listed in the rule is approved by the Director of the Federal Register beginning October 18, 2024. The incorporation by reference of certain other publications listed in the rule was approved by the Director of the Federal Register as of August 22, 2016.

ADDRESSES: To view documents mentioned in this preamble as being available in the docket, go to https://www.regulations.gov, type USCG-2020-0519 in the search box and click “Search.” Next, in the Document Type column, select “Supporting & Related Material.”

FOR FURTHER INFORMATION CONTACT: For information about this document, call or email Lieutenant Jeff Bors, Lifesaving and Fire Safety Division (CG-ENG-4), U.S. Coast Guard; telephone 571-610-2849, email Jeffrey.S.Bors@uscg.mil.

SUPPLEMENTARY INFORMATION:

Table of Contents for Preamble

I. Abbreviations

II. Basis, Purpose, and Regulatory History

III. Background

IV. Discussion of Comments

V. Discussion of the Final Rule and Changes From NPRM

VI. Incorporation by Reference

VII. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

ASTM ASTM International

CFR Code of Federal Regulations

CG-ENG Coast Guard Office of Design and Engineering Standards

COMDTINST Commandant Instruction

COSPAS Space System for the Search of Vessels in Distress

DHS Department of Homeland Security

EPIRB Emergency Position Indicating Radio Beacon

FCC Federal Communications Commission

FR Federal Register

FTP Code Fire Test Procedures Code

IBR Incorporation by reference

IMO International Maritime Organization

ISO International Organization for Standardization

LSA Life-Saving Appliances

MISLE Marine Information for Safety and Law Enforcement

MODU Mobile offshore drilling unit

MSC Maritime Safety Committee

MSHA Mine Safety and Health Administration

NIOSH National Institute for Occupational Safety and Health

NFPA National Fire Protection Association

NRTL Nationally Recognized Testing Laboratory

NPRM Notice of proposed rulemaking

NVIC Navigation and Vessel Inspection Circular

OCMI Officer in Charge, Marine Inspection

OCS Outer Continental Shelf

OMB Office of Management and Budget

PHS Public Health Service

RTCM Radio Technical Commission for Maritime Services

SARSAT Search and Rescue Satellite-Aided Tracking

SCBA Self-contained breathing apparatus

§ Section

SME Subject matter expert

SOLAS International Convention for the Safety of Life at Sea

UL Underwriters Laboratories, Inc.

U.S.C. United States Code

II. Basis, Purpose, and Regulatory History

The statutory authority for these regulations can be found in Title 46 of the United States Code (U.S.C.), Sections 3306 and 3703. The authority to issue regulations, pursuant to these sections, is delegated to the Commandant of the Coast Guard under Department of Homeland Security (DHS) Delegation No. 00170.1, Revision No. 01.4, paragraph (II)(92).

Under 46 U.S.C. 3306, the Secretary of DHS is required to prescribe necessary regulations to ensure safety of individuals and property on board vessels subject to inspection. This final rule ensures the proper design, construction, alteration, repair, and operation of vessels subject to inspection.

Under 46 U.S.C. 3703, the Secretary of DHS is required to prescribe regulations for the design, construction, alteration, repair, maintenance, operation, equipping, personnel qualification, and manning of tank and cargo vessels that may be necessary for increased protection against hazards to life and property, navigation and vessel safety, and enhanced protection of the marine environment.

The Coast Guard issued a notice of proposed rulemaking (NPRM) on May 23, 2023, and solicited public comment on the proposed rule during a comment period of 62 days.¹ The comment period closed on July 24, 2023. The Coast Guard received six comment submissions, which are discussed later in this document.

¹ 88 FR 33026.

This final rule amends title 33 of the Code of Federal Regulations (CFR), chapter I, subchapters NN, and 46 CFR, chapter I, subchapters A, D, F, H, I, I-A, K, L, N, Q, R, T, U, and W. These subchapters are associated with approving, carrying, and maintaining certain safety equipment required on board vessels and offshore units or facilities. The revisions in this final rule eliminate outdated requirements, reduce inspection and testing requirements, modify submission requirements for equipment approval to allow materials to be submitted electronically, and update standards incorporated by reference. Additionally, this final rule removes numerous obsolete CFR sections and updates other CFR sections to bring them into compliance with the International Convention for the Safety of Life at Sea (SOLAS) and related regulations.

III. Background

The Coast Guard conducted a comprehensive review of regulations regarding the approval, carriage, and maintenance of marine equipment on U.S.-flagged vessels. The Coast Guard continues to review regulations with the following goals: updating references to incorporated standards that have been modified; clarifying language; providing additional regulatory flexibility where possible; minimizing the regulatory burden on affected vessels; and removing obsolete rules to ensure marine equipment requirements are current with emerging technology and industry standards.

IV. Discussion of Comments

In response to the NPRM published on May 23, 2023, we received six written submissions during the comment period. These written submissions are available in the public docket for this rulemaking, where indicated under ADDRESSES, or at the direct link: https://www.regulations.gov/docket/USCG-2020-0519/comments. The Coast Guard appreciates the comments from the public, as these insights continue to inform Coast Guard actions and programs. We summarize the comments and our responses in the paragraphs that follow.

One commenter noted that the proposed changes to 46 CFR 116.400(c) would create an unintentional application of subchapter H's egress requirements found in § 72.05-20 for all subchapter K vessels that use SOLAS Structural Fire Protection requirements as equivalent. The intent of the amendments to § 116.400 was to clarify the egress requirements and not to impose additional egress requirements. All subchapter K vessels that use SOLAS Structural Fire Protection requirements as equivalent must comply with the egress requirements for stairtowers, stairways, ladders, and elevators in § 116.438. In accordance with § 116.438(a), those subchapter K vessels that carry more than 600 passengers or with overnight accommodations for more than 49 passengers must meet the egress requirements in subchapter H for stairtowers, stairways, ladders, and elevators in § 72.05-20. In response to this comment, in § 116.400(c) we removed the direct reference to § 72.05-20 from the proposed rule and added a reference to § 116.438 in this final rule so as not to apply § 72.05-20 to all subchapter K vessels.

A commenter noted the rulemaking's intent to “align the regulations with the current industry practice and provide more transparent regulations for the regulated industry” and suggested revising and updating the regulations for 46 CFR subchapter W. The commenter offered a number of suggestions to revise regulations for Emergency Position Indicating Radio Beacons (EPIRBs), distress signals, lifebuoys, survival craft, line throwing appliances, and provide clarity to the definitions of accommodation and workstation. The updates to subchapter W in this rule were specifically drafted to align davit maintenance intervals with SOLAS requirements, and not to update regulations in subchapter W in general. Therefore, this commenter's suggestions are outside the scope of this rulemaking. We cannot make those updates in this final rule; however, the Coast Guard acknowledges that the application of subchapter W to barges that are not self-propelled is ambiguous and is working to address it. Additionally, as of July 2023, there is a newly published Change 2 to Navigation and Vessel Inspection Circular (NVIC) 02-81 ² that has exemptions for life-saving requirements on integrated and articulated tug and barge combinations.

² U.S. Coast Guard NVIC 02-81 Ch-2, https://www.dco.uscg.mil/Portals/9/DCO%20Documents/5p/5ps/NVIC/1981/NVIC%2002-81%20Ch.2_CG%20%Inspec%20Guidance20Integrated%20and%20Articulated%20Tug%20&%20Barges.pdf, accessed January 23, 2024.

We received a comment regarding Coast Guard requirements for nonmetallic (plastic) piping used in various engineering systems for different types of vessels. The comment suggested that, because all nonmetallic piping used in the building industry essentially meets the same ASTM International (ASTM) D1784 standard requirements, piping that also meets this standard should be acceptable for use in vessel systems without more requirements from the Coast Guard. The intent of this rule on this particular subject is to remove redundant fire testing requirements for nonmetallic piping, specifically for vessels under 46 CFR subchapter K. A proposal to newly incorporate an industry standard on this subject is beyond the scope of this rulemaking, as piping requirements vary between the regulations applicable to specific vessel types. We note that manufacturers and vessel designers may submit specific material test results for general approval by the Coast Guard, or acceptance to an equivalent level of safety to the CFR for a particular vessel or project. As a result, the Coast Guard made no changes from the proposed rule in response to this comment.

We received a comment that concurred with the proposed edits to 46 CFR 56.60-25(a)(4), but also recommended that § 56.60-25(a)(7) be modified to include other laboratory accreditation bodies for potable water piping. Specifically, the comment recommended inclusion of accreditation entities signatory to the International Laboratory Accreditation Cooperation Mutual Recognition Arrangement. The Coast Guard's proposed change to remove repetitive wording was editorial in nature. As the commenter's recommended modification of acceptable accreditation entities is a substantial change that was not considered in the NPRM, we cannot make that change in this final rule; however, the recommendation may be considered for a future rulemaking.

We also received a comment regarding the carpet requirements for vessels under subchapter K in 46 CFR 116.423. The comment stated that the rugs and carpets requirements in § 116.423(a)(4) are applicable to all spaces, not just rooms containing fire resistant furnishings under § 116.423(a) and suggests that the carpet requirements should be its own paragraph, not a subparagraph of § 116.423(a). The Coast Guard acknowledges this comment. It is outside the scope of this rulemaking because this section was not part of the changes proposed in the NPRM. However, we will consider this revision for inclusion in a future rulemaking. For these reasons, we have made no changes from the proposed rule in response to this comment.

We received one comment on the regulatory analysis (RA) related to the affected population for the lifeboats listed in table 2 of the NPRM. The commenter expressed concern that the table did not provide enough clarity to determine if floating Outer Continental Shelf (OCS) facilities were included. We did not include floating OCS facilities in our population of vessels carrying lifeboats because the proposed change is not applicable to floating OCS facilities. We made the recommended changes to reflect the affected population of vessels carrying lifeboats by subchapter, and we listed the affected population by inspection subchapter, for vessels carrying lifeboats, in table 7 of the RA in this final rule.

V. Discussion of the Final Rule and Changes From NPRM

In order to decrease likelihood of introducing errors, to improve efficiency during the publication process, and to meet drafting and formatting requirements for publication, we are revising or revising and republishing several sections and tables, as appropriate. This final rule makes no substantive changes from the NPRM; it makes effective the following changes to various subchapters in titles 33 and 46 of the CFR:

(1) Modifies equipment approval submission requirements to allow for materials to be submitted electronically to typeapproval@uscg.mil, instead of the existing requirement of paper submissions in triplicate;

(2) Removes obsolete regulations for pilot hoists that are no longer allowed on U.S.-flagged vessels;

(3) Allows vessel owners and operators to use a third party to test the properties and quality of their firefighting foam;

(4) Revises the requirements for pressure vacuum relief valves to align with international consensus standards;

(5) Updates requirements for lifeboat and rescue boat releasing mechanisms on board mobile offshore drilling units (MODUs) to allow for lifeboats that serve as rescue boats to carry lifeboat releasing mechanisms. We note that this does not apply to OCS facilities as incorrectly stated in the NPRM;

(6) Removes prescriptive design requirements for lifeboat, rescue boat, and liferaft winch limit switches and aligns requirements with the Life-Saving Appliances (LSA) Code;

(7) Removes a redundant flame-spread testing requirement for nonmetallic piping used in certain vessels;

(8) Revises the “end-for-ending” requirement for launching appliance falls (wire ropes) to align with SOLAS, which allows for a fall replacement interval of 5 years without end-for-ending;

(9) Changes the interval for hydrostatic testing of all inert gas firefighting extinguishing system bottles to align with the hydrostatic testing intervals for carbon dioxide and Halon firefighting extinguishing systems. The interval will change from at least once every 5 or 10 years (depending on bottle size) to once every 12 years;

(10) Removes the Mine Safety and Health Administration's (MSHA) approval requirement for self-contained breathing apparatuses (SCBAs) because MSHA no longer certifies this type of equipment for marine use;

(11) Revises the standards of fire-resistant fiber-reinforced plastic resin used to manufacture survival craft and rescue boats to allow the use of additional international standards;

(12) Removes the requirement for Coast Guard approval of EPIRBs and codifies the current policy in which the Coast Guard reviews test data, instruction manuals, drawings, and specifications of the EPIRB and issues a letter to the manufacturer stating whether the EPIRB satisfies all Radio Technical Commission for Maritime Services (RTCM) Recommended Standards. This aligns with the requirements as set out in 47 CFR 80.1061;

(13) Adds an option for the use of fire detection systems as excess equipment for MODUs and a grandfathering clause for fire extinguishers on board nautical school vessels;

(14) Makes editorial changes to clarify language, correct typographical errors, and delete repetitive words;

(15) Updates incorporations by reference (IBRs), removes outdated IBRs, and revises CFR citations to the correct IBRs;

(16) Corrects errors in fire extinguisher quantities and ratings from a previous rulemaking; and

(17) Clarifies structural fire protection requirements for means of egress on 46 CFR subchapter K vessels.

Table 1 provides a list of the types of changes, summaries of the changes, and the subparts affected by this final rule. Further explanation for each of these categories can be found after the table.

Table 1—Summary of Changes and CFR Subparts and Sections Affected
Equipment involved or type of change | Changes | Affected CFR subparts and sections
CFR References and Changes to IBRs | 1. Deletes references to outdated IBRs and corrects improper IBRs in regulation text. 2. Corrects improper CFR references | 46 CFR 115.810(b)(1), 46 CFR 118.500(d), 46 CFR 160.171-3, 46 CFR 160.174-3, 46 CFR 161.002-18(a)(3), 46 CFR 161.002-19(a)(3), 46 CFR 161.002-19(b)(3), 46 CFR 162.017-0, 46 CFR 164.106-3(a), 46 CFR 164.137-2(b)(2), 46 CFR 164.137-3(a), 46 CFR 164.138-2(a), 46 CFR 164.138-2(b)(2), 46 CFR 164.138-3(a), 46 CFR 164.139-2(a), 46 CFR 164.139-2(b)(2), 46 CFR 164.139-3(a).
Editorial | 1. Clarifies language. 2. Corrects typographical errors. 3. Deletes repetitive words and wording | 33 CFR 149.410, 46 CFR 56.60-25(a)(4), 46 CFR 108.495, 46 CFR subpart 162.017, 46 CFR 181.500(b).
Electronic Submissions | 1. Adds option to submit equipment approval materials electronically. 2. Removes requirement for multiple copies of submissions for equipment approval, if submitted electronically | 46 CFR 2.75-10(b), 46 CFR 159.001-5, 46 CFR 160.115-9(b), 46 CFR 160.115-13(g)(2), 46 CFR 160.132-9(b), 46 CFR 160.132-13(g)(2), 46 CFR 160.133-9(b), 46 CFR 160.133-13(g)(2), 46 CFR 160.135-9(b), 46 CFR 160.135-13(g)(2), 46 CFR 160.156-9(b), 46 CFR 160.156-13(g)(2), 46 CFR 160.170-9(b), 46 CFR 160.170-13(g)(2), 46 CFR 161.002-18(a), 46 CFR 161.002-19(a)(2), 46 CFR 161.012-5(a), 46 CFR 161.012-5(b)(2), 46 CFR 161.013-11(c)(1), 46 CFR 161.013-17, 46 CFR 162.050-15(a), 46 CFR 162.060-40(b), 46 CFR 164.009-9(a), 46 CFR 164.018-7(a), 46 CFR 164.018-7(b)(2).
End-for-Ending Launching Appliance Falls | 1. Removes requirement for “end-for-ending” for launching appliance falls, to align with SOLAS. 2. Revises interval for launching appliance falls replacement to 5 years | 46 CFR 109.301(j), 46 CFR 199.190(j)
EPIRB | Aligns Coast Guard acceptance of EPIRBs in 46 CFR with Federal Communications Commission (FCC) requirements in 47 CFR and standards established by the Space System for the Search of Vessels in Distress (COSPAS), Search and Rescue Satellite-Aided Tracking (SARSAT), and RTCM | 46 CFR 161.011-1, 46 CFR 161.011-5, 46 CFR 161.011-10.
Equipment Deletion | Deletes pilot hoist approval series, § 163.002 and associated references in various subchapters | 46 CFR 32.90-1(h), 46 CFR 77.40-1(h), 46 CFR 96.40-1(h), 46 CFR 108.719(h), 46 CFR subpart 163.002, 46 CFR 195.40-1(h).
Fire Protection and Other Conforming Amendments | 1. Corrects fire extinguisher ratings. 2. Clarifies fire extinguisher quantities. 3. Adds option to allow use of nationally recognized testing laboratory (NRTL) listed and labeled fire detection systems as excess equipment for MODUs. 4. Adds grandfathering provision for fire extinguishers for public nautical school ships and sailing school ships | 46 CFR 34.10-90(a)(3), 46 CFR 34.50-10(a), 46 CFR 76.50-10(a), 46 CFR 95.50-10(a), 46 CFR 105.14(a), 46 CFR 108.103, 46 CFR 108.489(a)(3), 46 CFR 118.500(c), 46 CFR 167.45-40, 46 CFR 167.45-65, 46 CFR 167.45-70, 46 CFR 167.45-71, 46 CFR 167.45-75, 46 CFR 169.567(a), 46 CFR 169.568.
Foam Testing | 1. Adds option for third-party testing for foam concentrates. 2. Aligns testing processes with requirements in SOLAS and Coast Guard Office of Design and Engineering Standards (CG-ENG) Policy Letter 01-20, Third Party Foam Concentrate Analysis | 46 CFR 31.10-18(c), 46 CFR 107.235(b)(4).
Hydrostatic Testing for Inert Gas Cylinders | Revises hydrostatic testing requirements for inert gas bottles to every 12 years | 46 CFR 147.66(a), 46 CFR 147.66(c).
MODU Lifesaving Appliance Release Mechanism | 1. Adds an option in 46 CFR subchapter I-A to allow lifeboats also serving as rescue boats to have lifeboat release mechanisms instead of rescue boat release mechanisms. 2. Aligns this regulation with a similar regulation in 46 CFR subchapter W | 46 CFR 108.570(c)(3).
Nonmetallic Piping | Removes redundant fire testing requirements for nonmetallic piping in 46 CFR subchapter K | 46 CFR 116.405(f).
Pressure-Vacuum Relief Valves | 1. Revises requirements for approving pressure-vacuum relief valves. 2. Updates IBR edition | 46 CFR 39.1005, 46 CFR 39.2011(b)(1), 46 CFR 162.017-1, 46 CFR 162.017-2, 46 CFR 162.017-3(n), 46 CFR 162.017-3(r), 46 CFR 162.017-6.
Resins for Lifeboats and Rescue Boats | Removes approval series for fire-retardant resins and incorporates approval of these resins into approvals for lifeboats and rescue boats | 46 CFR 160.135-5(d), 46 CFR 160.135-7(b)(3)(iv)(A), 46 CFR 160.156-5(d), 46 CFR 160.156-7(b)(3)(iv)(A), 46 CFR subpart 164.120.
Self-Contained Breathing Apparatus | Removes obsolete requirement for MSHA approval for SCBAs | 46 CFR 35.30-20(c)(1), 46 CFR 77.35-5(b), 46 CFR 96.35-5(b), 46 CFR 108.497(a), 46 CFR 132.365(b)(1), 46 CFR 167.45-60(a), 46 CFR 169.717(a)(1).
Stairwell Structural Fire Protection and Means of Egress | Clarifies the stairwell structural fire protection and means of egress requirements for 46 CFR subchapter K vessels | 46 CFR 116.400(c).
Winches and Davits | 1. Removes prescriptive design requirements for winch and davit safety devices under the LSA Code. 2. Aligns the safety device requirement with the LSA Code | 46 CFR 160.115-7(b)(6)(vi).

CFR References and Changes to IBRs

This final rule deletes references to outdated IBR material in regulation text, deletes corresponding IBR titles and information listed in centralized IBR section(s), corrects improper IBR cites in regulatory text, and corrects improper CFR references, as outlined in table 1. See table 4 for additional information.

Editorial

Editorial changes in this final rule clarify language, correct typographical errors, and delete repetitive language in various subchapters in titles 33 and 46 of the CFR, as noted in table 1.

Electronic Submissions

Current regulations require manufacturers that produce marine safety equipment needing approval to mail their paper application and supporting documentation in triplicate. The requirement for submitting paper plans in triplicate allows the office reviewing the plans to mark the plans as “approved” and return one copy to the submitter, retain one copy in the office's files, and forward the third copy to the cognizant Officer in Charge, Marine Inspection (OCMI). However, in current practice, manufacturers submit their applications electronically via typeapproval@uscg.mil. When plans are submitted electronically, they can be stamped electronically and filed or distributed, as described above, without the need for printing or duplication. According to internal mail tracking data, in the last 5 years, 99.2 percent of all submissions related to applications for equipment approval were submitted electronically.

This final rule modifies the submission requirements for equipment approval to codify the use of electronic submissions. The CFR sections listed in table 1 have been updated to include optional electronic submissions and remove requirements to submit multiple copies of plans or test reports. If a manufacturer desires a stamped hard copy of plans, the hard copy plans can be submitted in triplicate, or accompanied by electronic plans, so that the copies can be filed or distributed as described above.

End-for-Ending Launching Appliance Falls

Currently, 46 CFR 109.301(j) and 199.190(j) require that falls for launching appliances be replaced when necessary due to deterioration or at least every 5 years, whichever is earlier. Additionally, the falls must be turned end-for-end not more than 30 months after installation (the phrase, “turned end-for-end” means rotating the wire ropes so the ropes wear evenly). These regulations allow an alternative to the end-for-ending requirements; however, in that case, the falls must be replaced at least every 4 years. This final rule removes the “end-for-ending” requirement for these launching appliance falls and requires falls to be replaced at least every 5 years to align with SOLAS Chapter III, which allows for a fall replacement interval of 5 years without end-for-ending. This final rule keeps the requirement to replace falls when they show signs of deterioration. It has been Coast Guard policy per Commandant Instruction (COMDTINST) M16000.7B, USCG Marine Safety Manual Vol. II B1 P.3.a(1)(c),³ that falls may be replaced in 5-year intervals if they are serviced in accordance with SOLAS Chapter III, Regulation 20.4.

³ U.S. Coast Guard, Marine Safety Manual Volume II: Materiel Inspection, “CH-2 to Marine Safety Manual Volume II, COMDTINST M16000.7B,” https://www.dco.uscg.mil/Portals/9/DCO%20Documents/5p/CSNCOE/USCG%20Marine%20Safety%20Manual%20Volume%20II%20-%20Material%20Inspection.pdf, accessed January 23, 2024.

EPIRB

Section 161.011-10 of title 46 of the CFR requires Coast Guard approval of EPIRBs. However, the FCC in its “Maritime Communications” final rule (68 FR 46957, 46974, Aug. 7, 2003), changed the approval process for EPIRBs in 47 CFR 80.1061. This update, which is still in effect, requires FCC approval for EPIRBs, but requires the Coast Guard to accept EPIRBs compliant with COSPAS, SARSAT, and RTCM standards before the FCC begins its review. Currently, the Coast Guard issues a letter stating compliance with these standards and does not issue approvals for EPIRBs. This final rule removes the requirement for Coast Guard approval of EPIRBs and aligns the Coast Guard's responsibility in 46 CFR 161.011-10 with the process in 47 CFR 80.1061.

Deletion of References to Outdated Equipment

This final rule deletes references to pilot hoists as approved equipment in 46 CFR subpart 163.002 by removing this subpart from the CFR. In 2010, an International Maritime Organization (IMO) Resolution of the Maritime Safety Committee (MSC), Resolution MSC.308(88),⁴ banned the use of pilot hoists on SOLAS vessels and updated SOLAS Chapter V requirements accordingly. Further, pilots in the United States do not use pilot hoists to embark a vessel. There are currently no Coast Guard-approved pilot hoists, and there has not been a Coast Guard-approved pilot hoist since 2000. This final rule also removes references to pilot hoists in 46 CFR subchapters D, H, I, I-A, and U.

⁴ Resolution MSC.308(88), “Amendments to the International Convention for the Safety of Life at Sea, 1974, as amended,” adopted December 3, 2010, https://wwwcdn.imo.org/localresources/en/KnowledgeCentre/IndexofIMOResolutions/MSCResolutions/MSC.308(88).pdf, accessed January 23, 2024.

Fire Protection and Other Conforming Amendments

NVIC 7-80, Use of Fire Detection Systems Which are Not Approved Under 46 CFR 161.002,⁵ allows the use of non-approved fire detection systems as excess equipment on board vessels if the system is listed and labeled by a Nationally Recognized Testing Laboratory (NRTL). This final rule adds the allowance for a fire detection system listed and labeled by an NRTL to be used as excess equipment for 46 CFR subchapter I-A, aligned with the guidance set forth in NVIC 7-80.

⁵ Department of Transportation and U.S. Coast Guard, NVIC 7-80, “Use of Fire Detection Systems Which are Not Approved Under 46 CFR 161.002,” https://www.dco.uscg.mil/Portals/9/DCODocuments/5p/5ps/NVIC/1980/n7-80.pdf, accessed January 23, 2024.

The 2016 final rule, “Harmonization of Standards for Fire Protection, Detection, and Extinguishing Equipment” (81 FR 48219, July 22, 2016), updated the design and approval standards for fire extinguishing equipment by changing the portable fire extinguisher ratings system from a weight-based rating system to the Underwriters Laboratories, Inc. (UL) performance-based rating system. That 2016 rule added a grandfathering clause to several sections in titles 33 and 46 of the CFR; ⁶ however, this clause was mistakenly left out for public nautical school ships and sailing school ships in 46 CFR subchapter R. This final rule corrects the oversight.

⁶ The 2016 final rule applied the grandfathering clause for vessels identified in 33 CFR 145.15 and 149.410, and 46 CFR 25.30-80, 34.50-80, 76.50-80, 95.50-80, 108.491(b), 132.250, and 193.50-90.

The previously mentioned “Harmonization of Standards for Fire Protection, Detection, and Extinguishing Equipment” rule also updated the portable fire extinguisher ratings system throughout title 46 of the CFR. In implementing that complex rule, there were errors in extinguisher quantities and ratings in 46 CFR subchapters H, I, K, and R, as listed in table 1. This final rule corrects those errors.

Foam Testing

Tank vessels and MODUs fitted with deck foam systems are required by 46 CFR 31.10-18(c) and 107.235(b)(4) to submit a representative sample of foam concentrate to the foam manufacturer to test foam gravity, pH, percentage of water dilution, and solid content. There are numerous laboratories other than those owned by foam manufacturers that can test firefighting foam concentrates. This final rule adds an option to allow third-party testing for firefighting foam concentrate. Allowing third parties that are accepted by the Coast Guard to test firefighting foam concentrates could be less burdensome to the vessel owners and operators and provide a level of safety similar to the current requirements that the manufacturer of the firefighting foam be the sole tester. Additionally, using a third party to test the properties of firefighting foam increases the number of companies available to test firefighting foam properties. This final rule also aligns with SOLAS requirements and codifies CG-ENG Policy Letter 01-20, Third Party Foam Concentrate Analysis.⁷

⁷ U.S. Coast Guard, CG-ENG Policy Letter 01-20 Third Party Foam Concentrate Analysis, June 23, 2020, https://www.dco.uscg.mil/Portals/9/DCO%20Documents/5p/5ps/Design%20and%20Engineering%20Standards/Life%20Saving%20and%20Fire%20Safety/Docs/CG-ENG%20PL%2001-20%20Foam%20Testing.pdf?ver=2020-07-09-142932-267, accessed January 23, 2024.

Hydrostatic Testing for Inert Gas Cylinders

This final rule changes the interval for hydrostatic testing of all inert gas fire extinguishing system bottles in 46 CFR 147.66 from at least once in every 5 or 10 years (depending on bottle size) to once in every 12 years. This change aligns the hydrostatic testing intervals for inert gas fire extinguishing system bottles with the intervals for carbon dioxide and halocarbon fire extinguishing system bottles in 46 CFR 147.65 and 147.67, respectively. The Coast Guard is not aware of any data or studies that demonstrate the need for a shorter hydrostatic testing interval for inert gas extinguishing system bottles compared to carbon dioxide or halocarbon extinguishing system bottles. Further, this change reduces servicing costs for vessel owners or operators without increasing risk.

MODU Lifesaving Appliance Release Mechanism

Per 46 CFR 108.570(c)(3), single fall lifeboats also serving as rescue boats on board MODUs are required to have an automatic release mechanism approved

under approval series 46 CFR subpart 160.170 rather than a lifeboat release mechanism (non-automatic). This final rule adds an option in 46 CFR 108.570(c)(3) to allow single fall lifeboats also serving as rescue boats on board MODUs to have lifeboat release mechanisms (non-automatic) or automatic release mechanisms. This allows owners and operators of MODUs the choice to select from a broader range of equipment options available to non-SOLAS lifeboat and rescue boat-releasing mechanisms. This change aligns this regulation with a similar regulation in 46 CFR 199.160(d)(2). There is no reason to treat lifeboats that also serve as rescue boats on offshore units differently than those units installed on board ships.

Nonmetallic Piping

Title 46 CFR 116.405(f) requires that nonmetallic (that is, plastic) piping in concealed spaces of small passenger vessels subject to 46 CFR subchapter K be tested under the ASTM E84 standard and meet required flame spread and smoke development ratings. However, plastic piping is already required to be approved by the Coast Guard under 46 CFR subpart 164.141 to meet flame spread and smoke and toxicity requirements under the FTP code. Although the test apparatus and procedures differ, the same material properties are tested. Requiring two different testing standards is redundant and provides no additional benefits, adds confusion by preventing approved piping from being used, and increases the cost for pipe manufacturers and purchasers. Therefore, the Coast Guard is removing the requirement to test nonmetallic pipes under the ASTM E84 standard and to clarify that, if nonmetallic piping is used in concealed spaces, it must be approved under approval series 46 CFR 164.141.

Pressure-Vacuum Relief Valves

Pressure-vacuum relief valves for tank vessels required in 46 CFR 32.20-5 and 39.2011(b) must be Coast Guard-approved pursuant to 46 CFR subpart 162.017. Currently, in 46 CFR subpart 162.017, International Organization for Standardization (ISO) standard 15364 is incorporated by reference and is an alternative standard to the prescriptive requirements in 46 CFR subpart 162.017 for approval of pressure-vacuum relief valves (see 46 CFR 162.107-3(r)). This final rule amends 46 CFR 39.2011(b) to allow ISO 15364 valves, or valves otherwise accepted by foreign-flag Administrations, as acceptable alternatives to the type-approval requirements of 46 CFR subpart 162.017. This final rule aligns our regulations for pressure-vacuum relief valves with SOLAS requirements. This final rule also amends 46 CFR 162.017-3(g) to replace the words “overhauling and repairs” with “maintenance,” 46 CFR 162.017-3(n) to correct an editorial error, and 46 CFR 162.017-6 to clarify the application process.

Resins for Lifeboats and Rescue Boats

Manufacturers of fiber-reinforced plastic survival craft and rescue boats who seek Coast Guard equipment approval are required to use resin accepted in 46 CFR subpart 164.120. This final rule revises the regulations for survival craft and rescue boats (46 CFR subparts 160.135 and 160.156) to incorporate by reference IMO MSC/Circular 1006, “Guidelines on Fire Test Procedures for Acceptance of Fire-Retardant Materials for the Construction of Lifeboats,” ⁸ an international standard for fire retardant resins that is already incorporated by reference in 46 CFR subpart 164.120. This final rule deletes 46 CFR subpart 164.120 and adds a review of fire-retardant resins in 46 CFR subparts 160.135 and 160.156. The Coast Guard will no longer maintain a list of accepted resins. Currently, there are 15 standards (4 ISO and 11 ASTM) incorporated by reference in 46 CFR subpart 164.120 that are out of date. There is no indication that using the standards for resins specified in the regulations, instead of other standards, is necessary for safely constructing fiberglass-reinforced plastic survival craft and rescue boats.

⁸ IMO MSC/Circular 1006, “Guidelines on Fire Test Procedures for Acceptance of Fire-Retardant Materials for the Construction of Lifeboats” is available to view in the docket (USCG-2020-0519).

Self-Contained Breathing Apparatus

All vessels regulated in 46 CFR subchapters D, K, I, I-A, L, R, and U are required to carry an SCBA as a part of a firefighting or emergency outfit. Currently, the regulations require these SCBAs to hold an MSHA approval. However, MSHA has not approved this equipment since 1995, when the Public Health Service (PHS) published the “Respiratory Protective Devices” final rule (60 FR 30336, June 8, 1995). This final rule deletes the obsolete requirement for SCBAs on inspected vessels to be approved by MSHA and aligns title 46 of the CFR with MSHA and PHS regulations.

Stairwell Structural Fire Protection and Means of Egress

The “Harmonization of Standards for Fire Protection, Detection, and Extinguishing Equipment” rule (81 FR 48219), published on July 22, 2016, added an option for inspected domestic vessels to meet either the structural fire protection requirements of SOLAS Chapter II-2, or the structural protection requirements found in the subchapter under which the vessel is inspected. The 2016 rule was intended to allow any U.S.-flagged vessel to be built to the requirements in SOLAS Chapter II-2, even if it is not certificated to SOLAS, which allows greater flexibility in design. However, the Coast Guard believes the 2016 rule used ambiguous language regarding the means of egress requirements for 46 CFR subchapter K vessels that used the SOLAS Chapter II-2 option for structural fire protection. This final rule adds language to clarify the means of egress requirements if subchapter K vessels use the SOLAS Chapter II-2 structural fire protection requirements for a design basis. This final rule also harmonizes stairways and ladders that meet SOLAS's structural and nonstructural fire protection requirements with U.S. design, structural, and nonstructural fire protection requirements.

Winches and Davits

This final rule removes prescriptive design requirements of safety devices for lifeboat, rescue boat, and liferaft winches, and aligns the safety device requirement with the LSA Code. Currently, 46 CFR 160.115-7(b)(6)(vi) requires that winches for survival craft or rescue boats have a limit switch on each davit arm to prevent damage to the launching equipment. However, requiring one limit switch for each davit arm is inconsistent with the IMO's LSA Code, which requires a safety device to prevent overstressing the falls, but does not prescribe that the device must be a limit switch. The Coast Guard is removing this prescriptive design requirement and aligning the safety device requirement with the LSA Code. This final rule allows launching appliance manufacturers to use different technologies to achieve the safety performance criteria of the LSA Code.

VI. Incorporation by Reference

Material for IBR appears in 46 CFR 39.1005, 39.2011, 160.135-5, 160.135-7, 160.156-5, 160.156-7, 160.171-3, 160.171-17, 160.174-3, 160.174-17, 162.017-1, and 162.017-3. The standards are summarized in section VII. L. Technical Standards, of this preamble. For information about how to view this material, see the ADDRESSES section of this preamble. Copies of the material are reasonably available from the sources listed in §§ 39.1005, 160.135-5, 160.156-5, 160.171-3, 160.174-3, and 162.017-1. The following standards have already been approved for the locations where they appear in the amendatory text, and there will be no change to the incorporation by reference: SOLAS, Chapter II-2, National Fire Protection Association (NFPA) 2001, and the Fire Test Procedures (FTP) Code.

VII. Regulatory Analyses

We developed this final rule after considering numerous statutes and Executive orders related to rulemaking. Below we summarize our analyses based on these statutes or Executive orders.

A. Regulatory Planning and Review

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

The Office of Management and Budget (OMB) has not designated this final rule a significant regulatory action under section 3(f) of Executive Order 12866, as amended by Executive Order 14094. This final rule will result in additional cost savings to industry with no reduction or change in safety benefits. Details on the estimated cost savings of this final rule can be found in the RA that follows.

The Coast Guard received one public comment on the affected population in the RA for the proposed rule. The commenter stated that in the NPRM, the RA did not provide clarity on whether the population included floating OCS facilities. We excluded floating OCS facilities because the proposed change is not applicable to floating OCS facilities and we addressed the comment in the RA of this final rule by clarifying the population of vessels carrying lifeboats (see table 7). We discuss our response to this comment in section IV., Discussion of Comments, in the preamble of this final rule. We are incorporating the commenter's suggestions into the RA for this final rule in the section discussing end-for-ending launching appliance falls (see table 7).

Table 2—Summary of Changes to the RA From the NPRM to the Final Rule
Description | NPRM | Final rule | Reason for change | Resulting change in RA
Affected population of U.S.-flagged vessels | The Coast Guard estimated that the proposed rule would affect 435 vessels carrying lifeboats. | In the final rule, we revised this estimate to 442 vessels. | Based on public comment, we revised this estimate using a new data pull. | The increase in the affected population of vessels carrying lifeboats increases the cost savings.
46 CFR 116.400(c) | The Coast Guard intended to clarify the stairwell structural fire protection and means of egress requirements for 46 CFR subchapter K vessels. | In the final rule, we revised the referenced citation to eliminate unnecessary case-by-case evaluations for certain vessels. | Based on public comment, we determined the proposed text change unintentionally required case-by-case evaluation for certain vessels. | No impact; clarification.

The Coast Guard is revising the requirements in 33 CFR subchapter NN and 46 CFR subchapters A, D, F, H, I, I-A, K, L, N, Q, R, T, U, and W. These subchapters are associated with approving, carrying, and maintaining certain safety equipment required on board vessels, offshore units, deepwater ports, and recreational vessels. These revisions eliminate outdated requirements, update standards incorporated by reference, and reduce the frequency of inspection and testing requirements for foam fire extinguishing systems, inert gas cylinders, and lifeboat wire falls. Additionally, this final rule removes obsolete sections and aligns conflicting sections with codes associated with SOLAS. The quantified cost savings of this final rule is associated with three items: hydrostatic testing of inert gas bottles, testing firefighting foam concentrates for fixed-foam fire-extinguishing systems, and replacing the fall wire ropes associated with lifeboats. Table 3 provides a summary of the impacts of this final rule.

Table 3—Summary of Impacts of the Final Rule
Category | Summary
Applicability | Update 33 CFR, chapter I, subchapter NN, and 46 CFR, chapter I, subchapters A, D, F, H, I, I-A, K, L, N, Q, R, T, U, and W.
Affected Population | 588 U.S.-flagged vessels: • 132 carrying foam fire extinguishing systems, • 14 carrying inert gas bottles, and • 442 carrying lifeboats.
Costs | There will be no costs to industry or the Federal Government because this final rule reduces burden and generates cost savings.
Benefits | Provide flexibility by offering third-party testing options for certain safety equipment. Reduce confusion and administrative burdens by (1) removing obsolete regulations, IBRs, and outdated references; and (2) updating standards to align with SOLAS, related regulations, and current industry practice.
Cost savings (7% discount rate)* | Cost savings to industry: 10-year: $2,532,521. Annualized: $360,574.
* Totals may not sum due to independent rounding.

Regulatory Changes of the Final Rule by CFR Subparts and Sections

Table 4 presents regulatory changes with an assessment of the economic impact of the changes to titles 33 and 46 of the CFR. The table shows the category of each change, descriptions of the changes, affected CFR subparts and sections, and the economic impact (cost savings or no impact) from the changes.

Table 4—Regulatory Changes of the Final Rule by CFR Subparts and Sections
Equipment involved or type of change | Changes | Affected CFR subparts and sections | Economic impact
CFR References and Changes to IBRs | 1. Deletes references to outdated IBRs and corrects improper IBRs in regulation text. 2. Corrects improper CFR references. | 46 CFR 115.810(b)(1), 46 CFR 118.500(d), 46 CFR 160.171-3, 46 CFR 160.174-3, 46 CFR 161.002-18(a)(3), 46 CFR 161.002-19(a)(3), 46 CFR 161.002-19(b)(3), 46 CFR 162.017-0, 46 CFR 164.106-3(a), 46 CFR 164.137-2(b)(2), 46 CFR 164.137-3(a), 46 CFR 164.138-2(a), 46 CFR 164.138-2(b)(2), 46 CFR 164.138-3(a), 46 CFR 164.139-2(a), 46 CFR 164.139-2(b)(2), 46 CFR 164.139-3(a) | No impact; editorial.
Editorial | 1. Clarifies language. 2. Corrects typographical errors. 3. Deletes repetitive words and wording. | 33 CFR 149.410, 46 CFR 56.60-25(a)(4), 46 CFR 108.495, 46 CFR subpart 162.017, 46 CFR 181.500(b) | No impact; editorial.
Electronic Submissions | 1. Adds option to submit equipment approval materials electronically. 2. Removes requirement for multiple copies of submissions for equipment approval, if submitted electronically. | 46 CFR 2.75-10(b), 46 CFR 159.001-5, 46 CFR 160.115-9(b), 46 CFR 160.115-13(g)(2), 46 CFR 160.132-9(b), 46 CFR 160.132-13(g)(2), 46 CFR 160.133-9(b), 46 CFR 160.133-13(g)(2), 46 CFR 160.135-9(b), 46 CFR 160.135-13(g)(2), 46 CFR 160.156-9(b), 46 CFR 160.156-13(g)(2), 46 CFR 160.170-9(b), 46 CFR 160.170-13(g)(2), 46 CFR 161.002-18(a), 46 CFR 161.002-19(a)(2), 46 CFR 161.012-5(a), 46 CFR 161.012-5(b)(2), 46 CFR 161.013-11(c)(1), 46 CFR 161.013-17, 46 CFR 162.050-15(a), 46 CFR 162.060-40(b), 46 CFR 164.009-9(a), 46 CFR 164.018-7(a), 46 CFR 164.018-7(b)(2) | No impact; aligns with current industry practice. Over the past 5 years, the Coast Guard has received 99.2 percent of the submissions electronically. So, this final rule codifies the use of electronic submission.
End-for-Ending Launching Appliance Falls | 1. Removes requirement for “end-for-ending” for launching appliance falls, to align with SOLAS. 2. Revises interval for launching appliance falls replacement to 5 years. | 46 CFR 109.301(j), 46 CFR 199.190(j) | Cost savings; reduces testing burdens by allowing owners and operators to replace the falls every 5 years without the end-for-ending requirement.
EPIRB | Aligns Coast Guard acceptance of EPIRBs in 46 CFR with Federal Communications Commission (FCC) requirements in 47 CFR and standards established by the Space System for the Search of Vessels in Distress (COSPAS), Search and Rescue Satellite-Aided Tracking (SARSAT), and RTCM. | 46 CFR 161.011-1, 46 CFR 161.011-5, 46 CFR 161.011-10 | No impact; aligns with, current industry practice.
Equipment Deletion | Deletes pilot hoist approval series, § 163.002, and associated references in various subchapters. | 46 CFR 32.90-1(h), 46 CFR 77.40-1(h), 46 CFR 96.40-1(h), 46 CFR 108.719(h), 46 CFR subpart 163.002, 46 CFR 195.40-1(h) | No impact; aligns with current industry practice.
Fire Protection and Other Conforming Amendments | 1. Corrects fire extinguisher ratings. 2. Clarifies fire extinguisher quantities. 3. Adds option to allow use of nationally recognized testing laboratory (NRTL) listed and labeled fire detection systems as excess equipment for MODUs. 4. Adds grandfathering provision for fire extinguishers for public nautical school ships and sailing school ships. | 46 CFR 34.10-90(a)(3), 46 CFR 34.50-10(a), 46 CFR 76.50-10(a), 46 CFR 95.50-10(a), 46 CFR 105.14(a), 46 CFR 108.103, 46 CFR 108.489(a)(3), 46 CFR 118.500(c), 46 CFR 167.45-40, 46 CFR 167.45-65, 46 CFR 167.45-70, 46 CFR 167.45-71, 46 CFR 167.45-75, 46 CFR 169.567(a), 46 CFR 169.568 | No impact; editorial and aligns with current industry practice.
Foam Testing | 1. Adds option for third-party testing for foam concentrates. 2. Aligns testing processes with requirements in SOLAS and Coast Guard Office of Design and Engineering Standards (CG-ENG) Policy Letter 01-20, Third Party Foam Concentrate Analysis. | 46 CFR 31.10-18(c), 46 CFR 107.235(b)(4) | Cost savings; reduces testing burdens via the use of other test alternatives from the third party.
Hydrostatic Testing for Inert Gas Cylinders | Revises hydrostatic testing requirements for inert gas bottles to every 12 years. | 46 CFR 147.66(a), 46 CFR 147.66(c) | Cost savings; changes the interval for hydrostatic testing for all vessels with inert gas bottles for fire protection systems from at least once in every 5 years for large bottles and 10 years for small bottles to once in every 12 years for all bottle types.
MODU Lifesaving Appliance Release Mechanism | 1. Adds an option in 46 CFR subchapter I-A to allow lifeboats also serving as a rescue boat to have lifeboat release mechanisms instead of rescue boat release mechanisms. 2. Aligns this regulation with a similar regulation in 46 CFR subchapter W. | 46 CFR 108.570(c)(3) | No impact; editorial and aligns with current industry practice.
Nonmetallic Piping | Removes redundant fire testing requirements for nonmetallic piping in 46 CFR subchapter K. | 46 CFR 116.405(f) | No impact; editorial.
Pressure-Vacuum Relief Valves | 1. Revises requirements for approving pressure-vacuum relief valves. 2. Updates IBR edition. | 46 CFR 39.1005, 46 CFR 39.2011(b)(1), 46 CFR 162.017-1, 46 CFR 162.017-2, 46 CFR 162.017-3(n), 46 CFR 162.017-3(r), 46 CFR 162.017-6 | No impact; editorial and aligns with current industry practice.
Resins for Lifeboats and Rescue Boats | Removes approval series for fire-retardant resins and incorporates approval of these resins into approvals for lifeboats and rescue boats. | 46 CFR 160.135-5(d), 46 CFR 160.135-7(b)(3)(iv)(A), 46 CFR 160.156-5(d), 46 CFR 160.156-7(b)(3)(iv)(A), 46 CFR subpart 164.120 | No impact; editorial.
Self-Contained Breathing Apparatus | Removes obsolete requirement for MSHA approval for SCBAs. | 46 CFR 35.30-20(c)(1), 46 CFR 77.35-5(b), 46 CFR 96.35-5(b), 46 CFR 108.497(a), 46 CFR 132.365(b)(1), 46 CFR 167.45-60(a), 46 CFR 169.717(a)(1) | No impact; editorial.
Stairwell Structural Fire Protection and Means of Egress | Clarifies the stairwell structural fire protection and means of egress requirements for 46 CFR subchapter K vessels. | 46 CFR 116.400(c) | No impact; editorial.
Winches and Davits | 1. Removes prescriptive design requirements for winch and davit safety devices under the LSA Code. 2. Aligns the safety device requirement with the LSA Code. | 46 CFR 160.115-7(b)(6)(vi) | No impact; editorial.

Affected Population

For this final rule, we obtained the affected population of vessels and the items they carry primarily from our Marine Information for Safety and Law Enforcement (MISLE) database and from supplemental information provided to us by subject matter experts (SMEs) in CG-ENG. The affected population is the total number of U.S.-flagged vessels carrying foam fire-extinguishing systems, lifeboat wire falls, and inert gas bottles for extinguishing fires. Based on MISLE database information from October 2023, and as noted in table 3, the total number of affected vessels is 588, made up of 132 vessels carrying foam fire-extinguishing systems, 14 vessels carrying inert gas bottles, and 442 vessels carrying lifeboats. Vessels can be carrying more than one type of equipment at a time, so there is some overlap in the number of vessels that, for example, carry a foam fire-extinguishing system and also carry lifeboats. For the purposes of our cost analysis, however, we assume there is no overlap.

Cost Analysis

This final rule imposes no cost on industry because it eliminates outdated requirements and reduces inspection and testing requirements on certain safety equipment required on board vessels and offshore units or facilities. As a result, this final rule generates cost savings to the industry. The cost savings are associated with reducing the maintenance intervals for hydrostatic testing of inert gas bottles and lifeboat wire falls and expanding testing parties for fixed-foam fire-extinguishing systems.

Regulatory Baseline

To obtain the cost savings associated with this final rule, we first calculated the current costs to mariners for firefighting foam testing, hydrostatic testing of inert gas bottles, and lifeboat wire falls. Then, we compared the current and the final rule costs to obtain the cost savings. The baseline costs for these items are as follows:

Foam Testing

Owners and operators of vessels that carry foam fire-extinguishing systems are required in 46 CFR 31.10-18(c) and 107.235(b)(4) to submit a representative sample of firefighting foam concentrate, if carried, to the manufacturer to test for specific properties such as gravity, pH, percentage of water dilution, and solid content. The testing is required before the inspection for certification and periodic inspection, which is twice in a 5-year period. From information obtained in MISLE and discussions with SMEs, there are a total of 132 vessels carrying foam fire-extinguishing systems in our affected population, because each vessel carries 1 foam fire-extinguishing system on board.

Based on information we obtained from a Coast Guard-approved third-party company that tests foam fire-extinguishing systems, and from consultations with SMEs, the cost to perform the test is about $150, which includes the cost for a vessel owner or operator to submit a foam sample to a manufacturer for testing. We estimate the total annual undiscounted cost for foam testing to be approximately $7,920. We calculate this by assuming that, in any given year, 40 percent (or 2 divided by 5 to represent the testing interval of 2 tests every 5 years) of the 132 foam systems require testing. We then multiply the result (132 × 0.40) by the cost per test ($150). Table 5 presents the baseline total undiscounted cost for fire extinguishing foam testing.

Table 5—Baseline Cost for Foam Testing
Period | Foam testing population for each period | Cost per test | Total cost
| (A) | (B) | (C) = (A) × (B)
1 | 132 × (0.40) | $150 | $7,920
2 | 132 × (0.40) | 150 | 7,920
3 | 132 × (0.40) | 150 | 7,920
4 | 132 × (0.40) | 150 | 7,920
5 | 132 × (0.40) | 150 | 7,920
6 | 132 × (0.40) | 150 | 7,920
7 | 132 × (0.40) | 150 | 7,920
8 | 132 × (0.40) | 150 | 7,920
9 | 132 × (0.40) | 150 | 7,920
10 | 132 × (0.40) | 150 | 7,920
Total |  |  | 79,200
Note: Totals may not sum due to independent rounding.
* This test occurs twice in a 5-year period.

Hydrostatic Testing for Inert Gas Cylinders

Under 46 CFR subpart 147.66, vessel owners or operators of vessels that carry inert gas fire extinguishing bottles must have the bottles hydrostatically tested at least once every 10 years for bottles with an equivalent water capacity of 125 pounds or less or once every 5 years for larger bottles with an equivalent water capacity of greater than 125 pounds. The water capacity of a bottle is used to obtain the volumetric size of the bottle for testing purposes because testing cannot be performed when the bottle contains an inert gas. This testing is necessary to ensure the integrity of the bottles. The Coast Guard contacted a company that hydrostatically tests inert gas bottles to obtain the costs associated with testing and discharging these bottles, recharging the bottles with an inert gas, and delivering the bottles to a vessel when the testing is completed.⁹

⁹ An inert gas is a gas that has low chemical reactivity under certain conditions, which makes it suitable for firefighting purposes either alone or with other gases. Inert gases extinguish fires by displacing oxygen in the air. The field of chemistry generally recognizes that six (naturally occurring) gases make up the list of inert gases: helium, argon, neon, krypton, xenon, and radon. See https://www.Britannica.com/science/noble-gas, accessed January 23, 2024.

The cost to discharge and test the bottle, rebuild the valve on the bottle, and recharge the bottle with an inert gas is about $1,220—a lump-sum amount provided to us by the testing company. The pickup and delivery costs are about $600. The company we contacted for this cost estimate provided a lump-sum figure, which includes the time it takes to drive to a vessel, disconnect the bottles, load the bottles onto the delivery vehicle, and transport the bottles to the testing facility and back to the vessel.

Therefore, the total cost a testing company charges a vessel owner or operator is about $1,820 ($1,220 + $600) to hydrostatically test inert gas bottles. Based on MISLE data and discussions with SMEs, the total number of inert gas bottles for the 14 vessels that have inert gas bottles on board is approximately 169, or approximately 12 bottles per vessel. We found no bottles that had a capacity of more than 125 pounds of equivalent water capacity in our population.

As a result, the testing cost once in a 10-year period is about $307,580 (169 bottles × $1,820). We estimate the total annual undiscounted cost for inert gas testing to be approximately $30,758. We calculate this by assuming that 10 percent (or 1 divided by 10 to represent the testing interval of 1 test every 10 years) of the 169 inert gas cylinders require testing over a 10-year period. We then multiply the result (169 × 0.10) by the cost per test ($1,820). Table 6 presents the baseline total undiscounted cost for inert gas cylinders.

Table 6—Baseline Cost for Inert Gas Cylinders
Period | Inert gas population for each period | Cost per test | Total cost
| (A) | (B) | (C) = (A) × (B)
1 | 169 × (0.10) | $1,820 | $30,758
2 | 169 × (0.10) | 1,820 | 30,758
3 | 169 × (0.10) | 1,820 | 30,758
4 | 169 × (0.10) | 1,820 | 30,758
5 | 169 × (0.10) | 1,820 | 30,758
6 | 169 × (0.10) | 1,820 | 30,758
7 | 169 × (0.10) | 1,820 | 30,758
8 | 169 × (0.10) | 1,820 | 30,758
9 | 169 × (0.10) | 1,820 | 30,758
10 | 169 × (0.10) | 1,820 | 30,758
Total |  |  | 307,580
Note: Totals may not sum due to independent rounding.
* This test occurs once every 10 years.

End-for-Ending Launching Appliance Falls

U.S.-flagged vessel owners and operators are required to replace lifeboat launching appliance falls (wire ropes) every 5 years, according to 46 CFR 109.301 and 199.190. According to current regulations, these falls must be turned end-for-end not more than 30 months, or 2.5 years, after installation during a 5-year period (the phrase “turned end-for-end” means rotating the wire ropes so the ropes wear evenly). There are two falls for each lifeboat, and there are two lifeboats per vessel. Using the MISLE database, we identified 442 U.S.-flagged vessels that carry lifeboats.

Table 7—U.S.-Flagged Vessel Population by Inspection Subchapter for Lifeboats
Subchapter | Description | Population
D | Tank Vessels | 20
H | Passenger Vessels (≥100 gross tons) | 3
I | Cargo and Miscellaneous Vessels | 311
I-A | Mobile Offshore Drilling Units (MODUs) | 1
K | Small Passenger Vessels Carrying More Than 49 Passengers | 5
M | Towing Vessels | 45
O & D Combination (tank barge or freight barge) | Combination Bulk Cargo-including chemicals | 19
R | Nautical Schools | 8
U | Oceanographic Research Vessels | 17
T | Small Passenger Vessels (under 100 gross tons) | 13
Total |  | 442

Each affected vessel has 2 lifeboats on board; therefore, we estimate there are 884 lifeboats that have fall wire ropes.

For cost savings purposes, we assume that each lifeboat has two fall wire ropes. The cost to turn two falls end-for-end on each launching appliance is about $2,000, based on information provided to us from a company that performs this function. Because there are 2 lifeboats per vessel, the population of lifeboat wire rope falls is 884. The total annual cost to turn falls end-for-end 2.5 years after installation for 884 lifeboat wire falls is about $353,600. We calculate this by assuming that in any given year, 20 percent (or 2 divided by 10 to represent the turning interval of 1 turn every 5 years) of the 884 lifeboat wire falls require turning. We then multiply the result (884 × 0.20) by the cost per turning ($2,000). Table 8 presents the baseline total undiscounted cost for lifeboat wire falls.

Table 8—Baseline Cost for Lifeboat Wire Falls
Period | Lifeboat wire falls population for each period | Cost per turning | Total cost
| (A) | (B) | (C) = (A) × (B)
1 | 884 × (0.20) | $2,000 | $353,600
2 | 884 × (0.20) | 2,000 | 353,600
3 | 884 × (0.20) | 2,000 | 353,600
4 | 884 × (0.20) | 2,000 | 353,600
5 | 884 × (0.20) | 2,000 | 353,600
6 | 884 × (0.20) | 2,000 | 353,600
7 | 884 × (0.20) | 2,000 | 353,600
8 | 884 × (0.20) | 2,000 | 353,600
9 | 884 × (0.20) | 2,000 | 353,600
10 | 884 × (0.20) | 2,000 | 353,600
Total |  |  | 3,536,000
Note: Totals may not sum due to independent rounding.
* This test occurs twice in a 5-year period.

We estimate the baseline total undiscounted cost to owners and operators of U.S.-flagged vessels for all three items to be about $3,922,780 ($79,200 + $3,536,000 + $307,580) (see table 9).

Table 9—Summary of Baseline Costs Associated With Each Item
Period | Foam testing | Lifeboat wire falls | Inert gas testing | Undiscounted cost
1 | $7,920 | $353,600 | $30,758 | $392,278
2 | 7,920 | 353,600 | 30,758 | 392,278
3 | 7,920 | 353,600 | 30,758 | 392,278
4 | 7,920 | 353,600 | 30,758 | 392,278
5 | 7,920 | 353,600 | 30,758 | 392,278
6 | 7,920 | 353,600 | 30,758 | 392,278
7 | 7,920 | 353,600 | 30,758 | 392,278
8 | 7,920 | 353,600 | 30,758 | 392,278
9 | 7,920 | 353,600 | 30,758 | 392,278
10 | 7,920 | 353,600 | 30,758 | 392,278
Total | 79,200 | 3,5360,000 | 307,580 | 3,922,780
Note: Totals may not sum due to independent rounding.

This final rule generates cost savings as follows:

Cost Savings

The cost savings originate from eliminating outdated requirements, reducing inspection, and testing requirements, and updating standards. The cost savings of this final rule are associated with three items: testing concentrates for fixed-foam fire-extinguishing systems, hydrostatic testing for inert gas bottles, and eliminating the end-for-ending requirement for launching appliance falls (wire ropes) when replaced at an interval of 5 years.

Foam Testing

There are numerous laboratories, other than those owned by foam manufacturers, that can test foam concentrates used for firefighting. Allowing a Coast Guard-accepted independent laboratory to test foam concentrates provides a similar level of safety to the current requirements and may be less burdensome to the vessel owners or operators. Additionally, the use of a third party to test the properties of the firefighting foam allows for increased availability in the number of companies able to test firefighting foam systems.

In this final rule, a Coast Guard-accepted independent laboratory, in place of a manufacturer, is permitted to perform the foam fire-extinguishing concentrates test. The charge for this service will be about $115 per system.¹⁰ This results in a total annual cost of $6,072. We calculate this by assuming that, in any given year, 40 percent (or 2 divided by 5 to represent the testing interval of 2 tests every 5 years) of the 132 foam systems require testing. We then multiply the result (132 × 0.40) by the projected cost per test ($115) (see table 10).

¹⁰ This price was obtained from the industry.

Table 10—Cost Change for Foam Testing
Period | Foam testing population for each period | Cost per test | Total cost
| (A) | (B) | (C) = (A) × (B)
1 | 132 × (0.40) | $115 | $6,072
2 | 132 × (0.40) | 115 | 6,072
3 | 132 × (0.40) | 115 | 6,072
4 | 132 × (0.40) | 115 | 6,072
5 | 132 × (0.40) | 115 | 6,072
6 | 132 × (0.40) | 115 | 6,072
7 | 132 × (0.40) | 115 | 6,072
8 | 132 × (0.40) | 115 | 6,072
9 | 132 × (0.40) | 115 | 6,072
10 | 132 × (0.40) | 115 | 6,072
Total |  |  | 60,720
Note: Totals may not sum due to independent rounding.
* This test occurs twice in a 5-year period.

We compared the current per-unit cost for firefighting foam testing of $150 when performed by a manufacturer with the projected per-unit cost of $115 when performed by a third party. We estimate the per-unit cost savings to be $35 ($150−$115). As we presented earlier in this analysis, the baseline and the projected costs for firefighting foam testing are $7,920 and $6,072, respectively (see tables 5 and 9). Therefore, the cost savings per year are about $1,848 ($7,920−$6,072), and the total cost savings for the firefighting foam testing part of this final rule are about $18,480 ($79,200−$60,720), undiscounted (see table 11).

Table 11—Net Cost Savings for Foam Testing
Period | Baseline cost * | Cost ** | Total cost savings
| (A) | (B) | (C) = (A)−(B)
1 | $7,920 | $6,072 | $1,848
2 | 7,920 | 6,072 | 1,848
3 | 7,920 | 6,072 | 1,848
4 | 7,920 | 6,072 | 1,848
5 | 7,920 | 6,072 | 1,848
6 | 7,920 | 6,072 | 1,848
7 | 7,920 | 6,072 | 1,848
8 | 7,920 | 6,072 | 1,848
9 | 7,920 | 6,072 | 1,848
10 | 7,920 | 6,072 | 1,848
Total | 79,200 | 60,720 | 18,480
Note: Totals may not sum due to independent rounding.
* Table 5.
** Table 10.

Hydrostatic Testing for Inert Gas Cylinders

We are changing the hydrostatic testing interval of all inert gas firefighting extinguishing system bottles from the current requirement of once every 10 years or once every 5 years, depending on size, to at least once every 12 years, which aligns with the hydrostatic testing intervals for carbon dioxide and halon firefighting extinguishing system bottles in 46 CFR 147.65.

The cost savings are from less frequent testing of inert gas bottles. For vessels with inert gas bottles less than 125 pounds, the test interval will change from at least once in every 10 years to at least once in every 12 years. For large bottles with inert gas bottles equal or greater than 125 pounds, the test interval will change from once in every 5 years to once in every 12 years. We found no bottles that had a capacity of more than 125 pounds of equivalent water capacity in our population. Therefore, for the purpose of this analysis, the relevant change in testing interval is from once every 10 years to once every 12 years. The total annual cost of hydrostatic testing for inert gas cylinders are approximately $25,632. We calculate this by assuming that, in any given year, 8.3 percent (or 1 divided by 12 to represent the testing interval of 1 test every 12 years) of the 169 inert gas cylinders require testing. We then multiply the result (169 × 0.083) by the cost per test ($1,820) (see table 12). As a result, vessel owners and operators will save $51,260 ($307,580—$256,320) in testing costs over a 10-year period (see table 13).

Table 12—Cost Change for Inert Gas Cylinders
Period | Inert gas population for each period | Cost per test | Total cost
| (A) | (B) | (C) = (A) × (B)
1 | 169 × (0.083) | $1,820 | $25,632
2 | 169 × (0.083) | 1,820 | 25,632
3 | 169 × (0.083) | 1,820 | 25,632
4 | 169 × (0.083) | 1,820 | 25,632
5 | 169 × (0.083) | 1,820 | 25,632
6 | 169 × (0.083) | 1,820 | 25,632
7 | 169 × (0.083) | 1,820 | 25,632
8 | 169 × (0.083) | 1,820 | 25,632
9 | 169 × (0.083) | 1,820 | 25,632
10 | 169 × (0.083) | 1,820 | 25,632
Total |  |  | 256,320
Note: Totals may not sum due to independent rounding.

Table 13—Net Cost Savings for Inert Gas Cylinders
Period | Baseline cost * | Cost ** | Total cost saving
| (A) | (B) | (C) = (A)−(B)
1 | $30,758 | $25,632 | $5,126
2 | 30,758 | 25,632 | 5,126
3 | 30,758 | 25,632 | 5,126
4 | 30,758 | 25,632 | 5,126
5 | 30,758 | 25,632 | 5,126
6 | 30,758 | 25,632 | 5,126
7 | 30,758 | 25,632 | 5,126
8 | 30,758 | 25,632 | 5,126
9 | 30,758 | 25,632 | 5,126
10 | 30,758 | 25,632 | 5,126
Total | 307,580 | 256,320 | 51,260
Note: Totals may not sum due to independent rounding.
* Table 6.
** Table 12.

End-for-Ending Launching Appliance Falls

The Coast Guard is revising the “end-for-ending” requirement for lifeboat launching appliance falls to align with SOLAS, which allows for a fall replacement interval of 5 years without turning the wires end-for-end. Current regulations require that falls must be replaced in 5-year intervals if they are serviced in accordance with IMO Circular MSC.1/Circ.1206 (Rev.1) and MSC.402(96).

The cost savings are from eliminating the requirement to turn the ropes end-for-end every 2.5 years over a 10-year period of analysis. As shown in table 8, the annual cost to turn falls end-for-end 2.5 years after installation for 884 lifeboat wire falls is about $353,600 (884 × 0.20 × $2,000). This results in cost savings for vessel owners and operators of about $3,536,000 ($353,600 × 10-year period) for the 442 U.S.-flagged vessels that have lifeboats on board. See table 14.

Table 14—Net Cost Savings for Lifeboat Wire Falls
Period | Baseline cost * | Cost | Total cost saving
| (A) | (B) | (C) = (A)−(B)
1 | $353,600 | $0 | $353,600
2 | 353,600 | 0 | 353,600
3 | 353,600 | 0 | 353,600
4 | 353,600 | 0 | 353,600
5 | 353,600 | 0 | 353,600
6 | 353,600 | 0 | 353,600
7 | 353,600 | 0 | 353,600
8 | 353,600 | 0 | 353,600
9 | 353,600 | 0 | 353,600
10 | 353,600 | 0 | 353,600
Total | 3,536,000 | 0 | 3,536,000
Note: Totals may not sum due to independent rounding.
* Table 8.

Table 15 shows the total cost savings for owners and operators of U.S.-flagged vessels to be about $3.6 million, undiscounted, over a 10-year period of analysis. We estimate the total present value or discounted cost savings of this final rule over a 10-year period of analysis to be between $2.5 and $3 million, at 7- and 3-percent discount rates, respectively. We estimate the annualized cost savings to be about $360,574 at each discount rate.

Table 15—Summary of Cost Savings of the Final Rule
[10-Year period of analysis, 7- and 3-percent discount rates]
Period | Foam testing * | Inert gas testing ** | Lifeboat wire falls *** | Undiscounted cost savings | 7% Discount | 3% Discount
1 | $1,848 | $5,126 | $353,600 | $360,574 | $336,985 | $350,072
2 | 1,848 | 5,126 | 353,600 | 360,574 | 314,939 | 339,876
3 | 1,848 | 5,126 | 353,600 | 360,574 | 294,336 | 329,976
4 | 1,848 | 5,126 | 353,600 | 360,574 | 275,080 | 320,365
5 | 1,848 | 5,126 | 353,600 | 360,574 | 257,084 | 311,034
6 | 1,848 | 5,126 | 353,600 | 360,574 | 240,266 | 301,975
7 | 1,848 | 5,126 | 353,600 | 360,574 | 224,547 | 293,180
8 | 1,848 | 5,126 | 353,600 | 360,574 | 209,857 | 284,640
9 | 1,848 | 5,126 | 353,600 | 360,574 | 196,128 | 276,350
10 | 1,848 | 5,126 | 353,600 | 360,574 | 183,298 | 268,301
Total | 18,480 | 51,260 | 3,536,000 | 3,605,740 | 2,532,521 | 3,075,769
Annualized |  |  |  |  | 360,574 | 360,574
Note: Totals may not sum due to independent rounding.
* Table 11.
** Table 13.
*** Table 14.

Electronic Submission

Current regulations require manufacturers that produce marine safety equipment needing approval to mail their paper application and supporting documentation in triplicate. The requirement for submitting paper plans in triplicate allows the office reviewing them to mark the approved plans and return one copy to the submitter, retain one copy in their files, and to forward the third copy to the cognizant OCMI. However, current industry practice is for manufacturers to submit their applications electronically, get them stamped electronically, and then distributed as described above. With this final rule, the Coast Guard is providing, in regulations, an option for submitting plans electronically. There are several sections in the CFR where we are removing the “in triplicate” requirement for submissions for equipment approval if the manufacturer wishes to submit plans electronically (see the table 3 for the affected CFR sections). According to data from the Coast Guard's Work Management System, 99.2 percent of all submissions related to applications for equipment approval were submitted electronically over the last 5 years. Consequently, this final rule adds an option for manufacturers to submit their applications and type approval materials electronically, to codify the current industry practice. There is no change in the hourly burden estimate and no impact to the information collection request.

Benefits

This final rule generates qualitative benefits. It reduces confusion and provides flexibility to industry by allowing third-party testing for certain safety equipment required on board vessels and offshore units or facilities. It also provides regulatory clarity by removing obsolete regulations, such as the MSHA approval for SCBAs for firefighters, and through updating standards to align with SOLAS.

Alternatives

The Coast Guard considered three alternatives to the final rule, as follows.

Alternative 1: No-Action Alternative

Under this alternative, the Coast Guard would have retained the status quo and not incorporate by reference industry standards into the CFR. This alternative would not have aligned conflicting sections of the CFR with SOLAS and related regulations. Furthermore, it would not have reduced the burden to industry, and would not have allowed the Coast Guard to perform retrospective review and updates to the regulations. We rejected this alternative because it would not generate cost savings for the marine industry, nor update standards in 33 CFR chapter I or 46 CFR chapter I.

Alternative 2: Policy Over Regulation

Under this alternative, the Coast Guard would have issued a NVIC or policy letter instead of proposing changes through an NPRM. As voluntary documents, neither NVICs nor policy letters are legally enforceable by the agency. A NVIC or a policy letter would not have updated the CFR, and the process of obtaining an equivalency test would still be needed. The Coast Guard rejected this alternative because industry would not benefit from current standards, and the public would not be given the opportunity to comment on current industry practice and standards.

Alternative 3: Preferred Alternative

With this alternative, the Coast Guard revises the regulations in 33 CFR chapter I and 46 CFR chapter I. This is the preferred alternative because it updates current standards and aligns conflicting sections of the CFR with SOLAS and related regulations, eliminates outdated standards, and reduces inspection and testing requirements. This alternative also allows the Coast Guard to perform retrospective reviews and updates to the regulations.

This alternative also reduces the workload for vessel owners and operators by extending testing or maintenance intervals and expanding the range of allowable testers for three items: inert gas bottles, foam fire-extinguishing systems, and lifeboat launching appliances falls (wire ropes). In turn, this alternative generates cost savings for vessel owners and operators and manufacturers of marine equipment. We presented the cost saving impacts of this alternative earlier in this analysis.

B. Small Entities

Under the Regulatory Flexibility Act, 5 U.S.C. 601-612, we have considered whether this rule will have a significant economic impact on a substantial number of small entities. The term “small entities” comprises small businesses, not-for-profit organizations that are independently owned and operated and are not dominant in their fields, and governmental jurisdictions with populations of less than 50,000.

We expect this final rule to generate cost savings for vessel owners and operators who own vessels that carry lifeboats, bottles of inert gas, and foam fire-extinguishing systems. The cost savings are the result of reducing the maintenance intervals for hydrostatic testing for inert gas bottles and testing and maintaining lifeboat falls (wire ropes). The cost savings for vessel owners and operators who own vessels that carry foam fire-extinguishing systems are from allowing a third party to test the firefighting foam concentrates.

Using the Coast Guard's MISLE database, we found this final rule affects 390 companies that own 531 distinct vessels. Of the 390 companies, 235 companies did not have company names in our MISLE database; therefore, we assumed these 235 companies to be small entities. We found that the remaining 155 companies own 296 vessels. Based on publicly available information from the online database “ReferenceUSAgov” and other online searches of companies,¹¹ we found revenue or employee information on 74 of the 155 companies. Using the Small Business Administration's “Table of Size Standards” and the North American Industry Classification System codes listed in the table, we identified 51 of the 74 companies to be small entities. We determined the other 23 companies were not small entities.¹² We did not find information on the remaining 81 companies; therefore, we assumed these companies were small entities.

¹¹ In addition to individual online searches of companies, the Coast Guard reviewed https://www.manta.com/mb to find revenue or employee information for the 74 companies; accessed January 29, 2024.

¹² https://www.sba.gov/document/support--table-size-standards; effective December 19, 2022, accessed January 29, 2024.

Overall, we assume there are a total of 132 small entities (51 + 81) out of 155 companies that were named in the MISLE database, or approximately 85 percent. If we add the number of small entities that we could confirm are small entities based on revenue or employee information (51) to the number of companies without company information (235 + 81), we assume the total number of small entities to be 367 out of the 390 companies affected by this final rule.

For cost savings purposes, we differentiated the vessels that have different combinations of the equipment on board. MISLE's database offers data on company names, vessels, and equipment types. From MISLE's data and our small entity analysis, we found that there are six different combinations of equipment that affect the savings for each vessel (see table 16). As a result, the affected small entities overlap and are not exclusive throughout this analysis.

Based on MISLE's data and our small entity analysis discussed earlier, we determined that there are 367 small entities. Out of the 367 small entities, we found that 68 small entities own vessels that carry only foam fire-extinguishing systems. As described in the RA earlier, the cost savings for foam fire-extinguishing systems is about $35 for each vessel, and the foam fire-extinguishing systems will be tested 4 times during the analysis period. These small entities will save about $952 annually per vessel (68 small entities × $35 savings per vessel × 0.4 systems tested per year), or about $14 per entity ($952 ÷ 68 small entities).

Using MISLE's data and the small entity analysis, we identified 251 small entities that own vessels carrying lifeboats that have fall wire ropes. Each of these small entities will save about $800 annually per vessel it owns (0.2 turns per year × $2,000 cost per turn × 2 lifeboats per vessel).

Based on MISLE's database, we found that only 8 small entities own vessels carrying only inert gas bottles; there are 58 inert gas bottles on these vessels.¹³ As presented in the RA earlier, the annual cost savings on inert gas tests is $30 [($1,820 (cost savings per inert gas test) ÷ 10 years—$1,820 (cost savings per inert gas test) ÷ 12 years) = $30], and the cost savings for the 8 entities is $1,740 [58 (number of inert gas bottles) × $30 (annual cost savings per inert gas bottle)]. These 8 small entities will save, on average, about $218 ($1,740 ÷ 8) annually per entity per vessel.

¹³ Please note that the number of inert gas bottles carried on board vessels varies from one vessel to another depending on the size of the space protected by the fire suppression system.

Using MISLE's data and the small entity analysis, we identified 36 small entities that own vessels carrying foam fire-extinguishing systems and lifeboats. As presented in the previous paragraphs, the annual cost savings per entity for the foam fire-extinguishing systems is $14, and the annual cost saving per entity for fall wire ropes is $800. Therefore, these 36 small entities will save about $814 ($14 + $800) annually per entity per vessel.

Using MISLE's data and the small entity analysis described earlier, we identified two small entities that own vessels carrying inert gas bottles and lifeboats that have fall wire ropes that need to be turned periodically. As presented in the previous paragraphs, the annual cost savings for these 2 entities that own vessels carrying inert gas bottles is $180 [6 (number of inert gas bottles carried on board vessels for both entities) × $30 (annual cost savings per inert gas bottle) = $180] and the annual cost savings for these 2 entities on fall wire ropes is $1,600 [2 (number of entities) × $800 (cost saving per entity for fall wire ropes) = $1,600]. Therefore, the annual cost savings for these 2 entities is $1,780 ($180 + $1,600) and these 2 small entities will each save, on average, about $890 ($1,780 ÷ 2).

Lastly, based on MISLE's data and the small entity analysis we presented previously in the NPRM, we identified two small entities that carry all three items. The annual cost savings for these 2 entities that own vessels carrying inert gas bottles is $3,000 [100 (number of inert gas bottles carried on board vessels for both entities) × $30 (annual cost savings per inert gas bottle) = $3,000]; the annual cost savings for these 2 entities for fall wire ropes is $1,600 [2 (number of entities) × $800 (cost saving per fall wire ropes) = $1,600]; and the annual cost savings for these 2 entities for foam fire-extinguishing systems is $28 [2 (number of entities) × $14 (cost savings per foam fire-extinguishing systems) = $28]. Therefore, the annual cost savings for these 2 entities is $4,628 ($3,000 + $1,600 + $28), and we estimate these 2 small entities will save, on average, about $2,314 ($4,628 ÷ 2 entities) annually per entity per vessel.

Table 16 shows the cost savings for small entities with each of the six different combinations of equipment described in the previous paragraphs.

Table 16—Summary of the Annual Cost Savings per Entity per Vessel of the Final Rule
Item | Number of small entities | Cost saving per entity per vessel | Cost saving per vessel
| (A) | (B) | (C) = (A) × (B)
Foam Testing | 68 | $14 | $952
Lifeboat Wire Falls | 251 | 800 | 200,800
Inert Gas Testing | 8 | 218 | 1,744
Foam Testing and Lifeboat Wire Falls | 36 | 814 | 29,304
Lifeboat Wire Falls and Inert Gas Testing | 2 | 890 | 1,780
Foam Testing, Lifeboat Wire Falls, and Inert Gas Testing | 2 | 2,314 | 4,628
Total | 367 |  | 239,208

From these 6 different combinations, the range of the annual cost savings that we estimate for small entities per vessel in this analysis is between $14 and $2,314, and the total annual cost savings for the small entities is about $239,208. Table 17 shows the cost savings per revenue for the small entities for which we had revenue information.

Table 17—Distribution of Revenue Impacts
Percent of revenue impact | Average annual impact per vessel |  |  |  |  | Small entities with known revenue
<1% | Foam Testing | Lifeboat Wire Falls | Inert Gas Testing | Foam Testing and Lifeboat Wire Falls | Lifeboat Wire Falls and Inert Gas Testing | 51
Cost Savings per Vessel | $14 | $800 | $218 | $814 | $890 |
Cost Savings per Small Entity | $28 | $1,600 | $436 | $1,628 | $1,780 |

Using MISLE's data, we found that 51 small entities, where we found revenue and employee information, own 92 vessels. Therefore, each small entity owns, on average, two vessels. Multiplying the cost savings per entity per vessel (see table 17) by the number of vessels owned by each entity or 2, yields the following cost savings per entity: $28 for foam testing ($14 × 2 vessels per entity = $28); $1,600 for lifeboat wire falls ($800 × 2 vessels per entity = $1,600); $436 for inert gas testing ($218 × 2 vessels per entity = $436); $1,628 for foam testing and lifeboats wire falls ($814 × 2 vessels per entity = $1,628); and $1,780 for lifeboat wire falls and inert gas testing ($890 × 2 vessels per entity = $1,780). For each of the 51 small entities with known revenue, the average annual cost savings per equipment type per small entity is less than 1 percent of annual revenue. Based on this analysis, we found that 100 percent of the small entities with known revenues impacted by this final rule (all 51 entities) will have a cost savings that is less than 1 percent of their annual revenue. The Coast Guard's economic analysis concluded that these changes generate cost savings and do not impose a significant impact on any entities affected by this final rule.

Therefore, the Coast Guard certifies under 5 U.S.C. 605(b) that this final rule will not have a significant economic impact on a substantial number of small entities. If you think that your business, organization, or governmental jurisdiction qualifies as a small entity and that this final rule has a significant economic impact on it, please submit a comment to the docket at the address listed in the ADDRESSES section of this preamble. In your comment, explain why you think it qualifies and how and to what degree this final rule will economically affect it.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This final rule calls for no new or revised collection of information under the Paperwork Reduction Act of 1995, 44 U.S.C. 3501-3520.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132. Our analysis follows.

It is well settled that States may not regulate in categories reserved for regulation by the Coast Guard. It is also well settled that all the categories covered in 46 U.S.C. 3306, 3703 (involving design, construction, alteration, repair, maintenance, operation, equipping, personnel qualification, and manning of vessels) and any other category in which Congress intended the Coast Guard to be the sole source of a vessel's obligations, are within the field foreclosed from regulation by the States. See United States v. Locke, 529 U.S. 89 (2000) (finding that the states are foreclosed from regulating tank vessels); see also Ray v. Atlantic Richfield Co., 435 U.S. 151, 157 (1978) (State regulation is preempted where “the scheme of federal regulation may be so pervasive as to make reasonable the inference that Congress left no room for the States to supplement it [or where] the Act of Congress may touch a field in which the federal interest is so dominant that the federal system will be assumed to preclude enforcement of state laws on the same subject” (citations omitted)). Because this final rule involves approving, carrying, and maintaining certain safety equipment required on board vessels and offshore units or facilities, it is part of a pervasive scheme of Federal regulation that forecloses regulation by the States. Because the States may not regulate within this field, this final rule is consistent with the principles of federalism and preemption requirements in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this final rule has implications for federalism under Executive Order 13132, please contact the person listed in the FOR FURTHER INFORMATION section of this preamble.

F. Unfunded Mandates

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. Although this rule will not result in such expenditure, we do discuss the effects of this rule elsewhere in this preamble.

G. Taking of Private Property

This final rule will not cause a taking of private property or otherwise have taking implications under Executive Order 12630 (Governmental Actions and Interference with Constitutionally Protected Property Rights).

H. Civil Justice Reform

This final rule meets applicable standards in sections 3(a) and 3(b)(2) of Executive Order 12988 (Civil Justice Reform) to minimize litigation, eliminate ambiguity, and reduce burden.

I. Protection of Children

We have analyzed this final rule under Executive Order 13045 (Protection of Children from Environmental Health Risks and Safety Risks). This rule is not an economically significant rule and will not create an environmental risk to health or risk to safety that might disproportionately affect children.

J. Indian Tribal Governments

This final rule does not have Tribal implications under Executive Order 13175 (Consultation and Coordination with Indian Tribal Governments), because it will not have a substantial direct effect on one or more Indian Tribes, on the relationship between the Federal Government and Indian Tribes, or on the distribution of power and responsibilities between the Federal Government and Indian Tribes.

K. Energy Effects

We have analyzed this final rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (for example, specifications of materials, performance, design, or operation; test methods; sampling procedures; and related management systems practices) that are developed or adopted by voluntary consensus standards bodies.

This final rule uses the following technical and voluntary consensus standards: ASTM D975-14, IMO MSC/Circular 1006, and ISO 15364. The sections that reference these standards and the locations where these standards are available are listed in 46 CFR 39.1005, 160.135-5, 160.156-5, 160.171-3, 160.174-3, and 162.017-1.

These standards provide internationally accepted and recognized parameters that equipment and material must meet to ensure its safety, proper usage, and preservation on the seas. The standards that will be incorporated were developed by either the ASTM, IMO, or ISO, which are voluntary consensus standard-setting organizations.

One ASTM standard will be incorporated by reference in this rulemaking: ASTM D975-14, “Standard Specification for Diesel Fuel Oils” (July 30, 2014). This ASTM specification classifies grades of diesel fuel oils suitable for various types of diesel engines. As incorporated, it defines the grade of fuel necessary to perform a test for oil resistance.

One IMO standard will be incorporated by reference in this rulemaking:

IMO MSC/Circular 1006 “Guidelines on Fire Test Procedures for Acceptance of Fire-Retardant Materials for the Construction of Lifeboats” (adopted on June 8, 2001). This test procedure is used for the acceptance of fire-retardant and flame-resistant materials used for the construction of lifeboats, which are required to be fire-retardant by the International Life-saving Code.

One ISO standard will be incorporated by reference in this rulemaking:

ISO 15364:2021(E) (February 2021)—“Ships and marine technology—Pressure-vacuum valves for cargo tanks and devices to prevent the passage of flame into cargo tanks.” This international standard specifies the minimum requirements for performance and testing of pressure-vacuum relief valves, with emphasis on selection of materials, internal finish, and surface requirements for pressure-vacuum relief valves installed on cargo tanks in tankers.

Consistent with incorporation by reference provisions in 1 CFR part 51, this material is reasonably available. Interested persons have access to it through their normal course of business; can purchase it from the organizations identified in 46 CFR 39.1005, 160.135-5, 160.156-5, 160.171-3, and 160.174-3; or may view a copy using the methods identified in those sections.

If you disagree with our analysis of these voluntary consensus standards or are aware of voluntary consensus standards that might apply but are not listed, please send a comment explaining your disagreement or identifying additional standards to the docket using one of the methods under ADDRESSES.

M. Environment

We have analyzed this final rule under DHS Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble. This final rule is categorically excluded under paragraphs L52, L54, and L57 of Appendix A, Table 1 of DHS Instruction Manual 023-01-001-01, Rev. 01. Paragraph L52 pertains to regulations concerning vessel safety standards; Paragraph L54 pertains to regulations which are editorial and procedural; and Paragraph L57 pertains to regulations concerning manning, documentation, admeasurement, inspection, and equipping of vessels.

This final rule revises regulations associated with the approval, carriage, and maintenance of certain safety equipment required on board vessels and offshore units or facilities. Some of these revisions are editorial or procedural actions that eliminate outdated requirements, reduce inspection and testing requirements, update standards incorporated by reference, remove obsolete sections, and align conflicting sections with codes associated with SOLAS. This final rule supports the Maritime Safety mission of the Coast Guard.

List of Subjects

33 CFR Part 149

Fire prevention, Harbors, Marine safety, Navigation (water), Occupational safety and health.

46 CFR Part 2

Marine safety, Reporting and recordkeeping requirements, Vessels.

46 CFR Part 31

Cargo vessels, Marine safety, Reporting and recordkeeping requirements.

46 CFR Part 32

Cargo vessels, Fire prevention, Marine safety, Navigation (water), Occupational safety and health, Reporting and recordkeeping requirements, Seamen.

46 CFR Part 34

Cargo vessels, Fire prevention, Marine safety.

46 CFR Part 35

Cargo vessels, Marine safety, Navigation (water), Occupational safety and health, Reporting and recordkeeping requirements, Seamen.

46 CFR Part 39

Cargo vessels, Fire prevention, Hazardous materials transportation, Incorporation by reference, Marine safety, Occupational safety and health, Reporting and recordkeeping requirements.

46 CFR Part 56

Reporting and recordkeeping requirements, Vessels.

46 CFR Part 76

Fire prevention, Marine safety, Passenger vessels.

46 CFR Part 77

Marine safety, Navigation (water), Passenger vessels.

46 CFR Part 95

Cargo vessels, Fire prevention, Marine safety.

46 CFR Part 96

Cargo vessels, Marine safety, Navigation (water).

46 CFR Part 105

Cargo vessels, Fishing vessels, Hazardous materials transportation, Marine safety, Petroleum, Seamen.

46 CFR Part 107

Marine safety, Oil and gas exploration, Reporting and recordkeeping requirements, Vessels.

46 CFR Part 108

Fire prevention, Marine safety, Occupational safety and health, Oil and gas exploration, Vessels.

46 CFR Part 109

Marine safety, Occupational safety and health, Oil and gas exploration, Reporting and recordkeeping requirements, Vessels.

46 CFR Part 115

Fire prevention, Marine safety, Passenger vessels, Reporting and recordkeeping requirements.

46 CFR Part 116

Fire prevention, Incorporation by reference, Marine safety, Passenger vessels, Reporting and recordkeeping requirements, Seamen.

46 CFR Part 118

Fire prevention, Marine safety, Passenger vessels, Reporting and recordkeeping requirements.

46 CFR Part 132

Cargo vessels, Fire prevention, Marine safety, Reporting and recordkeeping requirements.

46 CFR Part 147

Hazardous materials transportation, Incorporation by reference, Labeling, Marine safety, Packaging and containers, Reporting and recordkeeping requirements.

46 CFR Part 159

Business and industry, Laboratories, Marine safety, Reporting and recordkeeping requirements.

46 CFR Part 160

Incorporation by reference, Marine safety, Reporting and recordkeeping requirements.

46 CFR Part 161

Fire prevention, Incorporation by reference, Marine safety, Reporting and recordkeeping requirements.

46 CFR Part 162

Fire prevention, Incorporation by reference, Marine safety, Oil pollution, Reporting and recordkeeping requirements.

46 CFR Part 163

Marine safety.

46 CFR Part 164

Fire prevention, Incorporation by reference, Marine safety, Reporting and recordkeeping requirements.

46 CFR Part 167

Fire prevention, Marine safety, Reporting and recordkeeping requirements, Schools, Seamen, Vessels.

46 CFR Part 169

Fire prevention, Marine safety, Reporting and recordkeeping requirements, Schools, Vessels.

46 CFR Part 181

Fire prevention, Marine safety, Passenger vessels, Reporting and recordkeeping requirements.

46 CFR Part 195

Marine safety, Navigation (water), Oceanographic research vessels.

46 CFR Part 199

Cargo vessels, Marine safety, Oil and gas exploration, Passenger vessels, Reporting and recordkeeping requirements.

For the reasons discussed in the preamble, the Coast Guard amends 33 CFR part 149 and 46 CFR parts 2, 31, 32, 34, 35, 39, 56, 76, 77, 95, 96, 105, 107, 108, 109, 115, 116, 118, 132, 147, 159, 160, 161, 162, 163, 164, 167, 169, 181, 195, and 199 as follows:

Title 33—Navigation and Navigable Waters

PART 149—DEEPWATER PORTS: DESIGN, CONSTRUCTION, AND EQUIPMENT

1. The authority citation for part 149 is revised to read as follows:

Authority: 33 U.S.C. 1504, 1509; DHS Delegation No. 00170.1, Revision No. 01.4.

2. Amend § 149.410 by revising the section heading and the introductory text to read as follows:

§ 149.410 Location and number of fire extinguishers required for manned deepwater ports constructed before August 22, 2016.

Manned deepwater ports constructed before August 22, 2016, must meet the following requirements:

* * * * *

Title 46—Shipping

PART 2—VESSEL INSPECTIONS

3. The authority citation for part 2 is revised to read as follows:

Authority: 33 U.S.C. 1903; 43 U.S.C. 1333; 46 U.S.C. 2103, 2110, 3306, 3316, 3703, 70034; DHS Delegation No. 00170.1, Revision No. 01.4; E.O. 12234, 45 FR 58801, 3 CFR, 1980 Comp., p. 277, sec. 1-105.

4. Amend § 2.75-10 by revising paragraph (b) and adding paragraph (c) to read as follows:

§ 2.75-10 Procedures for obtaining approvals.

* * * * *

(b) Unless otherwise specified, correspondence concerning approvals should be submitted electronically to typeapproval@uscg.mil. When plans, drawings, test data, etc., are required to be submitted by the manufacturer, the material being transmitted with the application should be clearly identified.

(c) If the manufacturer requests that hard copy stamped plans be returned to them, or if product samples must be submitted, the plans or samples must be addressed to the Commandant (CG-ENG), Attn: Office of Design and Engineering Standards, U.S. Coast Guard Stop 7509, 2703 Martin Luther King Jr. Avenue SE, Washington, DC 20593-7509. When submitted, hard copy plans must be accompanied by electronic drawings or must be submitted in triplicate.

PART 31—INSPECTION AND CERTIFICATION

5. The authority citation for part 31 is revised to read as follows:

Authority: 33 U.S.C. 1321(j); 46 U.S.C. 2103, 3205, 3306, 3307, 3703; 46 U.S.C. Chapter 701; E.O. 12234, 45 FR 58801, 3 CFR, 1980 Comp., p. 277; E.O. 12777, 56 FR 54757, 3 CFR, 1991 Comp., p. 351; DHS Delegation No. 00170.1, Revision No. 01.4. Section 31.10-21 also issued under the authority of Sect. 4109, Pub. L. 101-380, 104 Stat. 515.

6. Amend § 31.10-18 by revising paragraph (c) to read as follows:

§ 31.10-18 Firefighting equipment: General—TB/ALL.

* * * * *

(c) Deck foam systems must be tested at the inspection for certification and the periodic inspection by discharging foam for approximately 15 seconds from any nozzle designated by the marine inspector. It is not required to deliver foam from all foam outlets, but all lines and nozzles must be tested with water to prove they are clear of obstruction. Before the inspection for certification and periodic inspection of deck foam systems utilizing a mechanical foam system, a representative sample of the foam concentrate must be submitted to the manufacturer, or its authorized representative, or an independent laboratory accepted for this purpose by the Coast Guard, who will issue a certificate indicating gravity, pH, percentage of water dilution, and solid content.

* * * * *

PART 32—SPECIAL EQUIPMENT, MACHINERY, AND HULL REQUIREMENTS

7. The authority citation for part 32 is revised to read as follows:

Authority: 46 U.S.C. 2103, 3306, 3703, 3719; E.O. 12234, 45 FR 58801, 3 CFR, 1980 Comp., p. 277; DHS Delegation No. 00170.1, Revision No. 01.4; Subpart 32.59 also issued under the authority of Sec. 4109, Pub. L. 101-380, 104 Stat. 515.

§ 32.90-1 [Amended]

8. Amend § 32.90-1 by removing paragraph (h).

PART 34—FIREFIGHTING EQUIPMENT

9. The authority citation for part 34 is revised to read as follows:

Authority: 46 U.S.C. 3306, 3703; E.O. 12234, 45 FR 58801, 3 CFR, 1980 Comp., p. 277; DHS Delegation No. 00170.1, Revision No. 01.4.

10. Amend § 34.10-90 by revising paragraph (a)(3) to read as follows:

§ 34.10-90 Installations contracted for prior to May 26, 1965—T/ALL.

(a) * * *

(3) Tankships of less than 500 gross tons shall be equipped with an efficient hand pump capable of delivering 50 gallons per minute or a power-driven pump of equivalent capacity. However, on tankships of 20 gross tons or under, where it is impracticable to install a hand or power-operated fire pump, or on tankships with only one man in the crew, at least one additional 40-B fire extinguisher may be accepted in lieu of a fire pump.

* * * * *

11. Amend § 34.50-10:

a. In paragraph (a), by removing the text “table 34.50-10(a) of this section”, wherever it appears, and adding in its place the text “table 1 to § 34.50-10(a)”;

b. In paragraph (h), by removing the text “Table 34.50-10(a) of this section” and adding in its place the text “Table 1 to § 34.50—10(a)”; and

c. In the table following paragraph (h) by:

i. Redesignating the table as table 1 to § 34.50-10(a); and

ii. Revising and republishing table 1 to § 34.50-10(a).

The revision reads as follows:

§ 34.50-10 Location, number, and installation of fire extinguishers—TB/ALL.

* * * * *

(a) * * *

Table 1 to § 34.50-10(a)—Portable and Semi-Portable Extinguishers
Tank ships: Quantity and location | Tank ships: Minimum required rating | Area | Tank barges: Minimum required rating | Tank barges: Quantity and location
Safety Areas
1 required | 20-B:C | Wheelhouse and chartroom areas |  | None required.
1 required in the vicinity of the exit | 20-B:C ¹ | Radio room |  | None required.
Accommodation Areas
1 required in each main passageway on each deck, conveniently located, and so that no room is more than 75 ft from an extinguisher | 2-A | Staterooms, toilet spaces, public spaces, offices, etc., and associated lockers, storerooms, and pantries | 2-A | 1 required in the vicinity of the exit.
Service Areas
1 required for each 2,500 sq ft or fraction thereof | 40-B:C | Galleys | 40-B:C | 1 required, suitable for the hazard involved.
1 required for each 2,500 sq ft or fraction thereof | 40-B | Stores areas, including paint and lamp rooms |  | None required.
Machinery Area ²
2 required ³ | 40-B | Spaces containing oil fired boilers, either main or auxiliary, or any fuel oil units subject to the discharge pressure of the fuel oil service pump | 40-B | 1 required.¹²
| and
1 required | 160-B ⁴
1 required for each 1,000 brake horsepower; not less than 2, not more than 6 ⁵ | 40-B | Spaces containing internal combustion or gas turbine propulsion machinery |  | None required.
| and
1 required ⁶ ⁷ | 120-B
1 required in the vicinity of the exit ⁷ | 40-B | Auxiliary spaces containing internal combustion or gas turbine units | 40-B | 1 required in the vicinity of the exit.⁷ ⁹ ¹²
1 required in the vicinity of the exit ⁸ | 40-B:C | Auxiliary spaces containing emergency generators |  | None required.
Cargo Areas
1 required in the lower pumproom | 40-B | Pumprooms | 40-B | 1 required in the vicinity of the exit.⁹ ¹²
None required |  | Cargo tank area | 40-B | 2 required.¹⁰ ¹² ¹³
|  |  | 160-B | 1 required.⁹ ¹¹
Spare Units
10 percent of required units rounded up | 2-A |  | 2-A | 10 percent of required units rounded up.
10 percent of required units rounded up | 40-B:C |  | 40-B:C | 10 percent of required units rounded up.
¹ Vessels not on an international voyage may substitute two 5-B:C rated extinguishers.
² A 40-B:C must be immediately available to the service generator and main switchboard areas, and further, a 40-B:C must be conveniently located not more than 50 feet (15.25 meters) walking distance from any point in all main machinery operating spaces. These extinguishers need not be in addition to other required extinguishers.
³ Vessels of fewer than 1,000 GT require 1.
⁴ Vessels of fewer than 1,000 GT may substitute 1 120-B:C.
⁵ Only 1 required for vessels under 65 ft in length.
⁶ If an oil-burning donkey boiler is fitted in the space, the 160-B:C previously required for the protection of the boiler may be substituted. Not required where a fixed carbon dioxide system is installed.
⁷ Not required on vessels of fewer than 300 GT if the fuel has a flashpoint higher than 110 °F.
⁸ Not required on vessels of fewer than 300 GT.
⁹ Not required if fixed system installed.
¹⁰ If no cargo pump on barge, only one 40-B:C required.
¹¹ Manned barges of 100 GT and over only.
¹² Not required on unmanned barges except during the transfer of cargo, or operation of barge machinery or boilers when the barge is not underway.
¹³ An extinguisher brought on to unmanned barges during the transfer of cargo, or operation of barge machinery or boilers does not have to be Coast Guard approved, provided it is approved by a nationally recognized testing laboratory (NRTL) in accordance with 29 CFR 1910.7.

* * * * *

PART 35—OPERATIONS

12. The authority citation for part 35 is revised to read as follows:

Authority: 33 U.S.C. 1321(j); 46 U.S.C. 3306, 3703, 6101, 70011, 70034; E.O. 12234, 45 FR 58801, 3 CFR, 1980 Comp., p. 277; E.O. 12777, 56 FR 54757, 3 CFR, 1991 Comp., p. 351; DHS Delegation No. 00170.1, Revision No. 01.4.

§ 35.30-20 [Amended]

13. Amend § 35.30-20 by removing the text “the Mine Safety and Health Administration (MSHA) and by” in paragraph (c)(1).

PART 39—VAPOR CONTROL SYSTEMS

14. The authority citation for part 39 is revised to read as follows:

Authority: 42 U.S.C. 7511b(f)(2); 46 U.S.C. 3306, 3703, 3715(b), 70011, 70034; E.O. 12234, 45 FR 58801, 3 CFR, 1980 Comp., p. 277; DHS Delegation No. 00170.1, Revision No. 01.4.

15. Amend § 39.1005 by:

a. Revising paragraph (a);

b. Redesignating paragraphs (g) through (i) as paragraphs (h) through (j); and

c. Adding new paragraph (g).

The revision and addition read as follows:

§ 39.1005 Incorporation by reference—TB/ALL.

(a) Certain material is incorporated by reference into this part with the approval of the Director of the Federal Register under 5 U.S.C. 552(a) and 1 CFR part 51. All approved incorporation by reference (IBR) material is available for inspection at the Coast Guard and at the National Archives and Records Administration (NARA). Contact Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, visit www.archives.gov/federal-register/cfr/ibr-locations.html or email fr.inspection@nara.gov. The material may be obtained from the sources in the following paragraphs of this section.

* * * * *

(g) International Organization for Standardization (ISO), ISO Central Secretariat Chemin de Blandonnet 8. CP 401—1214 Vernier, Geneva, Switzerland phone 41 22 749 01 11; www.iso.org/contact-iso.html.

(1) ISO 15364:2021(E), Ships and Marine Technology—Pressure-vacuum valves for cargo tanks and devices to prevent the passage of flame into cargo tanks, Fourth Edition, February 2021 (“ISO 15364”); IBR approved for § 39.2011(b).

(2) [Reserved]

* * * * *

16. Amend § 39.2011 by revising paragraph (b)(1) to read as follows:

§ 39.2011 Vapor overpressure and vacuum protection—TB/ALL.

* * * * *

(b) * * *

(1) Be type approved under 46 CFR 162.017 for the pressure and vacuum relief setting desired. Pressure-vacuum relief valves that meet the requirements of ISO 15364 (incorporated by reference, see § 39.1005) or equivalent standards acceptable to the flag state are acceptable for installation on foreign-flagged vessels and do not require type approval;

* * * * *

PART 56—PIPING SYSTEMS AND APPURTENANCES

17. The authority citation for part 56 is revised to read as follows:

Authority: 33 U.S.C. 1321(j), 1509; 43 U.S.C. 1333; 46 U.S.C. 3306, 3703; E.O. 12234, 45 FR 58801, 3 CFR, 1980 Comp., p. 277; E.O. 12777, 56 FR 54757, 3 CFR, 1991 Comp., p. 351; DHS Delegation No. 00170.1, Revision No. 01.4.

18. Amend § 56.60-25 by revising paragraph (a)(4) to read as follows:

§ 56.60-25 Nonmetallic materials.

(a) * * *

(4) Plastic pipe fitting and bonding techniques must follow the manufacturer's installation guidelines. Bonders must hold certifications required by the manufacturer's guidelines and provide documentation of current certification to the Marine Inspector when requested.

* * * * *

PART 76—FIRE PROTECTION EQUIPMENT

19. The authority citation for part 76 is revised to read as follows:

Authority: 46 U.S.C. 3306; E.O. 12234, 45 FR 58801, 3 CFR, 1980 Comp., p. 277; DHS Delegation No. 00170.1, Revision No. 01.4.

20. Amend § 76.50-10 by revising and republishing paragraphs (a) and (b) to read as follows:

§ 76.50-10 Location.

(a) Approved portable and semi-portable extinguishers must be installed in accordance with table 1 to 76.50-10(b). The location of the equipment must be to the satisfaction of the Officer in Charge, Marine Inspection. Nothing in this paragraph should be construed as limiting the Officer in Charge, Marine Inspection, from requiring such additional equipment as he or she deems necessary for the proper protection of the vessel.

(b) Table 1 to 76.50-10(b) indicates the minimum required number and type of extinguisher for each space listed. Extinguishers with larger numerical ratings or multiple letter designations may be used if the extinguishers meet the requirements of the table.

Table 1 to 76.50-10(b)—Carriage of Portable and Semi-Portable Fire Extinguishers
Space | Fire extinguishing: Minimum required rating | Fire extinguishing: Quantity and location
Safety Area ¹
Wheelhouse or fire control room | 2-A, 20-B:C | 1 of each rating required for vessels over 1,000 GT. Only 1 extinguisher is required if it carries both 2-A and 20-B:C ratings.
Stairway and elevator enclosures |  | None required.
Communicating corridors | 2-A | 1 in each main corridor in each main vertical zone. (May be located in stairway enclosures.)
Lifeboat embarkation and lowering stations |  | None required.
Radio room | 20-B:C ³ | 2 in the vicinity of the exit.²
Accommodations ¹
Staterooms, toilet spaces, isolated pantries, etc |  | None required.
Offices, lockers, and isolated storerooms |  | None required.
Public spaces | 2-A | 1 for each 2,500 sq ft or fraction thereof located in vicinity of the exits, except that none are required for spaces under 500 sq ft.
Open decks or enclosed promenades |  | None required.
Service Spaces
Galleys | 40-B:C | 1 for each 2,500 sq ft or fraction thereof suitable for hazards involved.
Main pantries | 2-A | 1 for each 2,500 sq ft or fraction thereof located in the vicinity of the exits.
Motion picture booths and film lockers | 10-B:C ³ | 1 outside in the vicinity of the exit.
Paint and lamp rooms | 40-B | 1 outside space in the vicinity of the exit.
Inaccessible baggage, mail, and specie rooms, and storerooms |  | None required.
Accessible baggage, mail, and specie rooms, and storerooms | 2-A | 1 for each 2,500 sq ft or fraction thereof located in the vicinity of the exits, either inside or outside the spaces.
Refrigerated storerooms | 2-A | 1 for each 2,500 sq ft or fraction thereof located in the vicinity of the exits, outside the spaces.
Carpenter, valet, photographic, printing shops sales rooms, etc. | 2-A | 1 outside the space in the vicinity of the exit.
Machinery Spaces
Coal-fired boilers: Bunker and boiler space |  | None required.
Oil-fired boilers: Spaces, containing oil fired boilers, either main or auxiliary, or their fuel oil units | 40-B 160-B | 2 required.³ 1 required.⁴
Internal combustion or gas turbine propelling machinery spaces | 40-B | 1 for each 1,000 brake horsepower, but not less than 2 or more than 6.
| 120-B | 1 required.⁵
Electric propulsive motors or generators of open type | 40-B:C | 1 for each propulsion motor or generator unit.
Enclosed ventilating systems for motors and generators of electric propelling machinery |  | None required.
Auxiliary spaces, internal combustion or gas turbine | 40-B | 1 outside the space in the vicinity of the exit.⁶
Auxiliary spaces, electric emergency motors or generators | 40-B:C | 1 outside the space in the vicinity of the exit.⁶
Auxiliary spaces, steam |  | None required.
Trunks to machinery spaces |  | None required.
Fuel tanks |  | None required.
Cargo Spaces
Inaccessible during voyage, including trunks (excluding tanks) |  | None required.
Accessible during voyage | 2-A | 1 for each 1,200 sq ft or fraction thereof.
Vehicular spaces (covered by a sprinkler system) | 40-B | 1, plus 1 for each 6,000 sq ft or fraction thereof.
Vehicular spaces (not covered by a sprinkler system) | 40-B | 1, plus 1 for each 1,500 sq ft or fraction thereof.⁷
Cargo oil tanks |  | None required.
Spare Units
| 2-A | 10 percent of the required number for public spaces rounded up.
| 40-B | 10 percent of the required number for cargo spaces rounded up.
| 40-B:C | 1.
¹ In any case, on vessels of 150 feet (45.72 meters) in length and over, there must be at least two 2-A units on each passenger deck.
² For vessels on an international voyage, substitute 1 20-B:C in the vicinity of the exit.
³ Vessels of less than 1,000 GT and not on an international voyage require 1.
⁴ Vessels of less than 1,000 GT and not on an international voyage may substitute one 120-B for one 160-B.
⁵ If an oil-burning donkey boiler is fitted in the space, the 160-B previously required for the protection of the boiler room may be substituted. Not required on vessels of less than 300 GT if the fuel has a flashpoint of 110 °F or lower except those on an international voyage.
⁶ Not required on vessels of less than 300 GT if the fuel has a flashpoint higher than 110 °F.
⁷ Two 10-B units may be substituted for one 40-B unit.

* * * * *

PART 77—VESSEL CONTROL AND MISCELLANEOUS SYSTEMS AND EQUIPMENT

21. The authority citation for part 77 is revised to read as follows:

Authority: 46 U.S.C. 3306; E.O. 12234, 45 FR 58801, 3 CFR, 1980 Comp., p. 277; DHS Delegation No. 00170.1, Revision No. 01.4.

§ 77.35-5 [Amended]

22. Amend § 77.35-5 by removing the text “the Mine Safety and Health Administration (MSHA) and” in paragraph (b).

§ 77.40-1 [Amended]

23. Amend § 77.40-1 by removing paragraph (h).

PART 95—FIRE PROTECTION EQUIPMENT

24. The authority citation for part 95 is revised to read as follows:

Authority: 46 U.S.C. 3306; E.O. 12234, 45 FR 58801, 3 CFR, 1980 Comp., p. 277; DHS Delegation No. 00170.1, Revision No. 01.4.

§ 95.50-10 [Amended]

25. Amend § 95.50-10:

a. In paragraph (a), by removing the text “Table 95.50-10(a) of this section” and adding in its place the text “table 1 to § 95.50-10(b)”

b. In paragraph (b), by removing the text “Table 95.50-10(a)” and adding in its place the text “Table 1 to § 95.50-10(b)”; and

c. Redesignating table 95.50-10(a) as table 1 to § 95.50-10(b); and

d. In footnote 4 to newly redesignated table 1 to § 95.50-10(b), removing the text “160-B” and adding in its place the text “120-B”.

PART 96—VESSEL CONTROL AND MISCELLANEOUS SYSTEMS AND EQUIPMENT

26. The authority citation for part 96 is revised to read as follows:

Authority: 46 U.S.C. 3306; E.O. 12234, 45 FR 58801, 3 CFR, 1980 Comp., p. 277; DHS Delegation No. 00170.1, Revision No. 01.4.

§ 96.35-5 [Amended]

27. Amend § 96.35-5 by removing the text “the Mine Safety and Health Administration (MSHA) and by” in paragraph (b).

§ 96.40-1 [Amended]

28. Amend § 96.40-1 by removing paragraph (h).

PART 105—COMMERCIAL FISHING VESSELS DISPENSING PETROLEUM PRODUCTS

29. The authority citation for part 105 is revised to read as follows:

Authority: 6 U.S.C. 468(b); 33 U.S.C. 1321(j); 46 U.S.C. 2103, 3306, 3703, 4502; E.O. 12777, sec. 2(d)(2) and (f), 56 FR 54757, 3 CFR, 1991 Comp., p. 351; DHS Delegation No. 00170.1, Revision No. 01.4.

30. Amend § 105.14 by revising paragraph (a) to read as follows:

§ 105.14 Fire Extinguishing Equipment.

(a) In addition to the extinguishers in the table to § 28.160 of this chapter, each vessel must carry at least two 40-B fire extinguishers that are approved under § 162.028 or § 162.039 of this chapter and must be located at or near the dispensing area. Extinguishers with larger numerical ratings or multiple letter designations may be used to meet this requirement. This equipment must be examined before issuing a letter of compliance.

* * * * *

PART 107—INSPECTION AND CERTIFICATION

31. The authority citation for part 107 is revised to read as follows:

Authority: 43 U.S.C. 1333; 46 U.S.C. 3306, 3307, 3316; DHS Delegation No. 00170.1, Revision No. 01.4; § 107.05 also issued under the authority of 44 U.S.C. 3507.

32. Amend § 107.235 by revising paragraph (b)(4) to read as follows:

§ 107.235 Servicing of portable fire extinguishers, semi-portable fire extinguishers and fixed fire extinguishing systems.

* * * * *

(b) * * *

(4) Foam, except premix systems: Discharge foam for approximately 15 seconds from a nozzle designated by the marine inspector. Discharge water from all other lines and nozzles. Submit a sample of the foam concentrate to the manufacturer or its authorized representative, or an independent laboratory accepted for the purpose by the Coast Guard for determination of specific gravity, pH, percentage of water dilution, and solid content and for certification as a suitable firefighting foam.

* * * * *

PART 108—DESIGN AND EQUIPMENT

33. The authority citation for part 108 is revised to read as follows:

Authority: 43 U.S.C. 1333; 46 U.S.C. 3102, 3306; DHS Delegation No. 00170.1, Revision No. 01.4.

34. Revise § 108.103 to read as follows:

§ 108.103 Equipment not required on a unit.

(a) Each item of lifesaving and firefighting equipment carried on board the unit in addition to equipment of the type required under this subchapter, must—

(1) Be approved; or

(2) Be acceptable to the cognizant OCMI, for use on the unit.

(b) Use of non-approved fire detection systems may be acceptable as excess equipment, provided that—

(1) Components are listed and labeled by an independent, nationally recognized testing laboratory as set forth in 29 CFR 1910.7, and are designed, installed, tested, and maintained in accordance with an appropriate industry standard and the manufacturer's specific guidance;

(2) Installation conforms to the requirements of subchapter J of this chapter, including the hazardous location electrical installation regulations in § 111.105 of this chapter; and

(3) Coast Guard plan review is completed for wiring plans.

35. Amend § 108.489 by revising paragraph (a)(3) to read as follows:

§ 108.489 Helicopter fueling facilities.

(a) * * *

(3) A 160-B fire extinguisher approved under § 162.028 or § 162.039 of this chapter for each fueling facility up to 300 square feet (27.87 square meters). Extinguishers with larger numerical ratings or multiple letter designations may be used to meet this requirement.

* * * * *

36. Amend § 108.495 by:

a. Removing the text “Table 108.495 of this section” and adding in its place the text “Table 1 to § 108.495” in the introductory text;

b. Redesignating table 108.495 as table 1 to § 108.459; and

c. Revising and republishing newly redesignated table 1 to § 108.459.

The revision reads as follows:

§ 108.495 Locations and number of fire extinguishers required.

* * * * *

Table 1 to § 108.495—Carriage of Portable Fire Extinguishers
Space | Minimum required rating | Quantity and location
Safety Areas
Wheelhouse and control room | 20-B:C | 2 in the vicinity of the exit.
Stairway and elevator enclosure |  | None required.
Corridors | 2-A | 1 in each corridor not more than 150 ft (45 m) apart. (May be located in stairways.)
Lifeboat embarkation and lowering stations |  | None required.
Radio room | 10-B:C | 2 in the vicinity of the exit.
Accommodations
Staterooms, toilet spaces, public spaces, offices, lockers, small storerooms, pantries, open decks, and similar spaces |  | None required.
Service Spaces
Galleys | 40-B:C | 1 for each 2,500 sq ft (232.2 sq m) or fraction thereof suitable for the hazards involved.
Paint and lamp rooms | 40:B | 1 outside each room in the vicinity of the exit.
Storerooms | 2-A | 1 for each 2,500 sq ft (232.2 sq m) or fraction thereof located in the vicinity of the exits, either inside or outside the spaces.
Workshop and similar spaces | 20-B:C | 1 outside each space in the vicinity of the exit.
Machinery Spaces
Oil-fired boilers: Spaces containing oil-fired boilers, either main or auxiliary, or their fuel oil units | 40-B | 2 required in each space.
| 160-B | 1 required in each space. See note 1.
Internal combustion or gas turbine propelling machinery spaces | 40-B | 1 for each 1,000 brake horsepower but not less than 2 and not more than 6 in each space.
| 120-B | 1 required in each space. See note 1.
Motors or generators of electric propelling machinery that do not have an enclosed ventilating system | 40-B:C | 1 for each motor or generator.
Motors and generators of electric propelling machinery that have enclosed ventilating systems |  | None required.
Auxiliary Spaces
Internal combustion engines or gas turbine | 40-B | 1 outside the space containing engines or turbines in the vicinity of the exit.
Electric emergency motors or generators | 40-B:C | 1 outside the space containing motors or generators in the vicinity of the exit.
Steam driven auxiliary machinery |  | None required.
Trunks to machinery spaces |  | None required.
Fuel tanks |  | None required.
Miscellaneous Areas
Helicopter landing decks | 160-B | 1 at each access route.
Helicopter fueling facilities | 160-B | 1 at each fuel transfer facility. See note 2.
Drill floor | 40-B:C | 2 required.
Cranes with internal combustion engines | 40-B:C | 1 required.
Spare Units
| 2-A | 10 percent of the total required rounded up.
| 40-B:C | 10 percent of the total required rounded up.
¹ Not required where a fixed gas extinguishing system is installed.
² Not required where a fixed foam system is installed in accordance with § 108.489.

§ 108.497 [Amended]

37. Amend § 108.497 by removing the text “the Mine Safety and Health Administration (MSHA) and by” in paragraph (a).

§ 108.570 [Amended]

38. Amend § 108.570 by removing the word “must” and adding in its place the word “may” in paragraph (c)(3).

§ 108.719 [Amended]

39. Amend § 108.719 by removing paragraph (h).

PART 109—OPERATIONS

40. The authority citation for part 109 is revised to read as follows:

Authority: 43 U.S.C. 1333; 46 U.S.C. 3306, 6101, 10104; DHS Delegation 00170.1, Revision No. 01.4.

41. Amend § 109.301 by revising paragraph (j) to read as follows:

§ 109.301 Operational readiness, maintenance, and inspection of lifesaving equipment.

* * * * *

(j) Maintenance of falls. Each fall used in a launching appliance must be inspected annually with special regard for areas passing through sheaves and must be renewed when necessary due to deterioration or at intervals of not more than 5 years, whichever is earlier.

* * * * *

PART 115—INSPECTION AND CERTIFICATION

42. The authority citation for part 115 is revised to read as follows:

Authority: 33 U.S.C. 1321(j); 46 U.S.C. 2103, 3205, 3306, 3307; 49 U.S.C. App. 1804; E.O. 11735, 38 FR 21243, 3 CFR, 1971-1975 Comp., p. 277; DHS Delegation 00170.1, Revision No. 01.4.

§ 115.810 [Amended]

43. Amend § 115.810 by removing the text “Chapter 4 of” in paragraph (b)(1).

PART 116—CONSTRUCTION AND ARRANGEMENT

44. The authority citation for part 116 is revised to read as follows:

Authority: 46 U.S.C. 2103, 3306; E.O. 12234, 45 FR 58801, 3 CFR, 1980 Comp., p. 277, DHS Delegation 00170.1, Revision No. 01.4.

45. Amend § 116.400 by revising paragraph (c) to read as follows:

§ 116.400 Application.

* * * * *

(c) Vessels meeting the structural fire protection requirements of SOLAS, Chapter II-2, Regulations 5, 6, 8, 9, and 11 (incorporated by reference, see § 114.600 of this chapter), when combined with the requirements in § 116.438, may be considered equivalent to the provisions of this subpart.

46. Amend § 116.405 by revising paragraph (f) to read as follows:

§ 116.405 General arrangement and outfitting.

* * * * *

(f) Nonmetallic piping in concealed spaces. The use of nonmetallic (plastic) pipe within a concealed space in a control space, accommodation space, or service space is permitted in nonvital service only if the piping material has been approved under § 164.141 of this chapter and meets both low flame spread rating and toxicity requirements.

* * * * *

PART 118—FIRE PROTECTION EQUIPMENT

47. The authority citation for part 118 is revised to read as follows:

Authority: 46 U.S.C. 2103, 3306; E.O. 12234, 45 FR 58801, 3 CFR, 1980 Comp., p. 277; DHS Delegation 00170.1, Revision No. 01.4.

§ 118.500 [Amended]

48. Amend § 118.500:

a. In paragraph (a), by removing the text “Table 118.500(a) of this section” and adding in its place the text “table 1 to § 118.500(b)”;

b. In paragraph (b), by removing the text “Table 118.500(a) of this section” and adding in its place the text “Table 1 to § 118.500(b)”;

c. By redesignating table 118.500(a) as table 1 to § 118.500(b);

d. In paragraph (c), by removing the text “10” and adding in its place the text “5”; and

e. In paragraph (d), by removing the text “(c)” and adding in its place the text “(b)”.

PART 132—FIRE PROTECTION EQUIPMENT

49. The authority citation for part 132 is revised to read as follows:

Authority: 46 U.S.C. 3306, 3307; sec. 617, Pub. L. 111-281, 124 Stat. 2905; DHS Delegation 00170.1, Revision No. 01.4.

§ 132.365 [Amended]

50. Amend § 132.365 by removing the text “the Mine Safety and Health Administration and by” in paragraph (b)(1).

PART 147—HAZARDOUS SHIPS STORES

51. The authority citation for part 147 is revised to read as follows:

Authority: 46 U.S.C. 3306; E.O. 12234, 45 FR 58801, 3 CFR, 1980 Comp., p. 277; DHS Delegation 00170.1, Revision No. 01.4.

52. Amend § 147.66 by revising paragraphs (a) and (c) to read as follows:

§ 147.66 Inert gas fire extinguishing systems.

(a) Inert gas cylinders forming part of a clean agent fixed fire extinguishing system must be retested every 12 years.

* * * * *

(c) Flexible connections between cylinders and discharge piping for fixed inert gas fire extinguishing systems must be renewed or retested in accordance with section 7.3 of NFPA 2001 (incorporated by reference, see § 147.7), except that this renewal or retesting must occur when the cylinders are retested.

PART 159—APPROVAL OF EQUIPMENT AND MATERIALS

53. The authority citation for part 159 is revised to read as follows:

Authority: 46 U.S.C. 3306, 3703; DHS Delegation 00170.1, Revision No. 01.4; Section 159.001-9 also issued under the authority of 44 U.S.C. 3507.

54. Revise § 159.001-5 to read as follows:

§ 159.001-5 Correspondence and applications.

(a) Unless otherwise specified, all correspondence and applications in connection with approval and testing of equipment and materials should be submitted electronically to typeapproval@uscg.mil. When plans, drawings, test data, etc., are required to be submitted by the manufacturer, the material being transmitted with the application should be clearly identified.

(b) If the manufacturer desires hard copy stamped plans be returned to them, or if product samples must be submitted, the plans or samples must be addressed to: Commandant (CG-ENG), Attn: Office of Design & Engineering Standards, U.S. Coast Guard Stop 7509, 2703 Martin Luther King Jr. Avenue SE, Washington, DC 20593-7509. When submitted, hard copy plans must be accompanied by electronic drawings or must be submitted in triplicate.

PART 160—LIFESAVING EQUIPMENT

55. The authority citation for part 160 is revised to read as follows:

Authority: 46 U.S.C. 2103, 3306, 3703, 4302; E.O. 12234; 45 FR 58801; 3 CFR, 1980 Comp., p. 277; and DHS Delegation 00170.1, Revision No. 01.4.

56. Amend § 160.115-7 by revising paragraphs (b)(6)(vi) introductory text and (b)(6)(vi)(A) to read as follows:

§ 160.115-7 Design, construction, and performance of winches.

* * * * *

(b) * * *

(6) * * *

(vi) Limit switches must be provided to limit the travel of the davit arms as they approach the final stowed position and prevent overstressing the falls or davits. These switches must—

(A) Be arranged so that the activation of any limit switch will stop the travel of all of the davit arms;

* * * * *

§§ 160.115-9, 160.115-13, 160.132-9, 160.132-13, and 160.133-9 [Amended]

57. Amend §§ 160.115-9(b) introductory text, 160.115-13(g)(2), 160.132-9(b) introductory text, 160.132-13(g)(2), and 160.133-9(b) introductory text by removing the words “in triplicate”.

§ 160.133-13 [Amended]

58. Amend § 160.133-13 by removing the text “, in triplicate” in paragraph (g)(2).

59. Amend § 160.135-5 by adding paragraph (d)(7) to read as follows:

§ 160.135-5 Incorporation by reference.

* * * * *

(d) * * *

(7) MSC/Circ. 1006, Guidelines on Fire Test Procedures for Acceptance of Fire-Retardant Materials for the Construction of Lifeboats, June 18, 2001; IBR approved for § 160.135-7(b).

* * * * *

60. Amend § 160.135-7 by revising paragraph (b)(3)(iv)(A) to read as follows:

§ 160.135-7 Design, construction, and performance of lifeboats.

* * * * *

(b) * * *

(3) * * *

(iv) * * *

(A) Resin. Any resin used for the hull, canopy, hatches, rigid covers, and enclosures for the engine, transmission, and engine accessories, must be fire retardant according to IMO MSC/Circ. 1006 (incorporated by reference, see § 160.135-5)

* * * * *

§ 160.135-9 [Amended]

61. Amend § 160.135-9 by removing the words “in triplicate” in paragraph (b) introductory text.

§ 160.135-13 [Amended]

62. Amend § 160.135-13 by removing the text “, in triplicate” in paragraph (g)(2) introductory text.

63. Amend § 160.156-5 by adding paragraph (d)(7) to read as follows:

§ 160.156-5 Incorporation by reference.

* * * * *

(d) * * *

(7) MSC/Circ. 1006, Guidelines On Fire Test Procedures For Acceptance Of Fire-Retardant Materials For The Construction Of Lifeboats, June 18, 2001; IBR approved for § 160.156-7.

* * * * *

64. Amend § 160.156-7 by revising paragraph (b)(3)(iv)(A) to read as follows:

§ 160.156-7 Design, construction, and performance of rescue boats and fast rescue boats.

* * * * *

(b) * * *

(3) * * *

(iv) * * *

(A) Resin. Any resin used for the hull, canopy, hatches, rigid covers, and enclosures for the engine, transmission, and engine accessories, must be fire retardant according to IMO MSC/Circ. 1006 (incorporated by reference, see § 160.156-5)

* * * * *

§ 160.156-9 [Amended]

65. Amend § 160.156-9 by removing the words “in triplicate” in paragraph (b) introductory text.

§ 160.156-13 [Amended]

66. Amend § 160.156-13 by removing the text “, in triplicate” in paragraph (g)(2) introductory text.

§ 160.170-9 [Amended]

67. Amend § 160.170-9 by removing words “in triplicate” in paragraph (b) introductory text.

§ 160.170-13 [Amended]

68. Amend § 160.170-13 by removing text “, in triplicate,” in paragraph (g)(2).

69. Revise § 160.171-3 to read as follows:

§ 160.171-3 Incorporation by reference.

Certain material is incorporated by reference into this subpart with the approval of the Director of the Federal Register in accordance with 5 U.S.C. 552(a) and 1 CFR part 51. All approved incorporation by reference (IBR) material is available for inspection at the Coast Guard Headquarters and at the National Archives and Records Administration (NARA). Contact the Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, visit: www.archives.gov/federal-register/cfr/ibr-locations.html or email: fr.inspection@nara.gov. The material may be obtained from the following sources:

(a) ASTM International (ASTM). 100 Barr Harbor Drive, P.O. Box C700, West Conshohocken, PA 19428-2959; phone: +1 610 832 9500; email: service@astm.org; web: www.astm.org.

(1) ASTM B117-97, Standard Practice for Operating Salt Spray (Fog) Apparatus (“ASTM B117”); IBR approved for § 160.171-17(k).

(2) ASTM C177-85 (1993), Standard Test Method for Steady-State Heat Flux Measurements and Thermal Transmission Properties by Means of the Guarded-Hot-Plate Apparatus (“ASTM C177”); IBR approved for § 160.171-17(e).

(3) ASTM C518-91, Standard Test Method for Steady-State Heat Flux Measurements and Thermal Transmission Properties by Means of the Heat Flow Meter Apparatus (“ASTM C518”); IBR approved for § 160.171-17(e).

(4) ASTM D975-14, Standard Specification for Diesel Fuel Oils, approved February 1, 2014 (“ASTM D975”); IBR approved for § 160.171-17(p).

(5) ASTM D1004-94a, Standard Test Method for Initial Tear Resistance of Plastic Film and Sheeting (“ASTM D1004”); IBR approved for § 160.171-17(n).

(b) General Services Administration (GSA). email: GSAStandards@gsa.gov; web: https://fedspecs.gsa.gov/s/federal-specifications.

(1) Federal Test Method Standard No. 191a dated July 20, 1978, Method 5304.1, Abrasion Resistance of Cloth, Oscillatory Cylinder (Wyzenbeek) Method, dated July 9, 1971 (“Federal Test Method Standard 191, Method 5304.1”); IBR approved for § 160.171-17(o).

(2) Federal Standard No. 751a, Stitches, Seams, and Stitchings, dated January 25, 1965 (“Federal Standard No. 751”); IBR approved for § 160.171-9(c).

(c) National Institution of Standards and Technology (NIST) (formerly National Bureau of Standards). U.S. Department of Commerce, National Institution of Standards and Technology, 100 Bureau Drive, Gaithersburg, MD 20899; phone: (301) 975-2000; web: www.nist.gov.

(1) National Bureau of Standards Special Publication 440—Color, Universal Language and Dictionary of Names; December 1976 (“National Bureau of Standards Publication 440”); IBR approved for § 160.171-9(h). (Available at https://nvlpubs.nist.gov/nistpubs/Legacy/SP/nbsspecialpublication440.pdf)

(2) [Reserved]

(d) Underwriters Laboratories (UL). 1850 M. St. NW, Suite 1000, Washington, DC, District of Columbia, 20036-5833; phone: (202) 296-7840; fax: (202) 872-1576; web: www.ul.com.

(1) UL 1191, Standard for Components for Personal Flotation Devices, First Edition, as revised March 29, 1977; IBR approved for § 160.171-17(h).

(2) [Reserved]

70. Revise § 160.174-3 to read as follows:

§ 160.174-3 Incorporation by reference.

Certain material is incorporated by reference into this subpart with the approval of the Director of the Federal Register in accordance with 5 U.S.C. 552(a) and 1 CFR part 51. All approved incorporation by reference (IBR) material is available for inspection at the Coast Guard Headquarters and at the National Archives and Records Administration (NARA). Contact the Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, email: fr.inspection@nara.gov, or go to: www.archives.gov/federal-register/cfr/ibr-locations.html. The material may be obtained from the sources in the following paragraphs of this section.

(a) ASTM International (ASTM). 100 Barr Harbor Drive, P.O. Box C700, West Conshohocken, PA 19428-2959; phone: +1 610 832 9500; email: service@astm.org; web: www.astm.org.

(1) ASTM C177-85 (1993), Standard Test Method for Steady-State Heat Flux Measurements and Thermal Transmission Properties by Means of the Guarded-Hot-Plate Apparatus (“ASTM C 177”); IBR approved for § 160.174-17(f) and (g).

(2) ASTM C518-91, Standard Test Method for Steady-State Heat Flux Measurements and Thermal Transmission Properties by Means of the Heat Flow Meter Apparatus (“ASTM C 518”); IBR approved for § 160.174-17(f) and (g).

(3) ASTM D975-14, Standard Specification for Diesel Fuel Oils, approved February 1, 2014 (“ASTM D 975”); IBR approved for § 160.174-17(g).

(4) ASTM D1004-94a, Standard Test Method for Initial Tear Resistance of Plastic Film and Sheeting (“ASTM D 1004”); IBR approved for § 160.174-47(i).

(5) ASTM D1518-85 (1990), Standard Test Method for Thermal Transmittance of Textile Materials (“ASTM D 1518”); IBR approved for § 160.174-17(f).

(b) General Services Administration (GSA). email: GSAStandards@gsa.gov; web: https://fedspecs.gsa.gov/s/federal-specifications.

(1) Federal Standard No. 751a, Stitches, Seams, and Stitchings, dated January 25, 1965 (“Federal Standard No. 751”); IBR approved for § 160.174-9(b).

(2) [Reserved]

(c) National Institution of Standards and Technology (NIST) (formerly National Bureau of Standards). U.S. Department of Commerce, National Institution of Standards and Technology, 100 Bureau Drive, Gaithersburg, MD 20899; phone: (301) 975-2000; web: www.nist.gov.

(1) National Bureau of Standards Special Publication 440—Color, Universal Language and Dictionary of Names (“National Bureau of Standards Publication 440”); December 1976; IBR approved for § 160.174-9(f). (Available at https://nvlpubs.nist.gov/nistpubs/Legacy/SP/nbsspecialpublication440.pdf)

(2) [Reserved]

PART 161—ELECTRICAL EQUIPMENT

71. The authority citation for part 161 is revised to read as follows:

Authority: 46 U.S.C. 3306, 3703, 4302; E.O. 12234, 45 FR 58801, 3 CFR, 1980 Comp., p. 277; DHS Delegation 00170.1, Revision No. 01.4.

72. Amend § 161.002-18 by revising the section heading and paragraph (a) to read as follows:

§ 161.002-18 System method of applications for equipment approval.

(a) The manufacturer must submit the following material to the Commandant (CG-ENG), according to § 159.001-5 of this subchapter:

(1) A formal written request that the system be reviewed for approval.

(2) The system's instruction manual, including information concerning installation, maintenance, limitations, programming, operation, and troubleshooting.

(3) Proof of listing the system devices meeting the requirements of § 161.002-6(a).

(4) The complete test report(s) meeting the requirements of § 161.002-6 generated by an independent laboratory accepted by the Commandant under part 159 of this subchapter or an NRTL as set forth in 29 CFR 1910.7. A current list of Coast Guard-accepted laboratories may be obtained from the following website: https://cgmix.uscg.mil/eqlabs/.

(5) A list prepared by the manufacturer that contains the name, model number, and function of each major component and accessory, such as the main control cabinet, remote annunciator cabinet, detector, zone card, isolator, central processing unit, zener barrier, special purpose module, or power supply. This list must be identified by the following information assigned by the manufacturer:

(i) A document number;

(ii) A revision number (the original submission being revision number 0); and

(iii) The date that the manufacturer created or revised the list.

* * * * *

73. Amend § 161.002-19 by revising the section heading and paragraphs (a) and (b) to read as follows:

§ 161.002-19 Device method of application for equipment approval.

(a) The manufacturer must submit the following material to the Commandant (CG-ENG) according to § 159.001-5 of this subchapter:

(1) A formal written request that the device be reviewed for approval;

(2) The device's instruction manual, including information concerning installation, maintenance, limitations, programming, operation, and troubleshooting;

(3) Proof of listing the device meeting the requirements of § 161.002-6(a); and

(4) The complete test report(s) meeting the requirements of § 161.002-6 generated by an independent laboratory accepted by the Commandant under part 159 of this subchapter or an NRTL as set forth in 29 CFR 1910.7. A current list of Coast Guard accepted laboratories may be obtained from the following website: https://cgmix.uscg.mil/eqlabs/.

(b) To apply for a revision, the manufacturer must submit—

(1) A written request under paragraph (a) of this section;

(2) Updated documentation under paragraph (a)(2) of this section;

(3) Proof of listing the device meeting the requirements of § 161.002-6(a); and

(4) A report by an independent laboratory accepted by the Commandant under part 159 of this subchapter or an NRTL as set forth in 29 CFR 1910.7 is required to document compliance with § 161.002-6.

* * * * *

§ 161.011-1 [Amended]

74. Amend § 161.011-1 by removing the word “approval” and adding in its place the word “acceptance”.

75. Revise § 161.011-5 to read as follows:

§ 161.011-5 Types.

EPIRBs are typed as follows:

(a) Category 1—EPIRBs are capable of floating free of a vessel and activating automatically if the vessel sinks.

(b) Category 2—EPIRBs are manually removed from the mounting bracket and activated.

76. Revise § 161.011-10 to read as follows.

§ 161.011-10 EPIRB acceptance.

(a) The Coast Guard reviews test reports from an accepted independent laboratory for EPIRBs accepted in § 161.011-5.

(b) An application for acceptance or type acceptance of an EPIRB should be submitted to the Coast Guard before the FCC in accordance with 47 CFR part 1061. When requested by the FCC, the Coast Guard reviews the test results in the application that concern installation and operation of the EPIRB. The Coast Guard provides the results of the review to the manufacturer, and to the FCC for its use in acting upon the application.

77. Amend § 161.012-5 by:

a. Revising paragraph (a); and

b. In paragraph (b)(2), by removing the words “Two copies of plans” and adding in their place the word “Plans”.

The revision reads as follows:

§ 161.012-5 Approval procedures.

(a) An application for approval of a PFD light under this subpart must be submitted to the Commandant (CG-ENG) according to § 159.001-5 of this subchapter.

* * * * *

78. Amend § 161.013-11 by revising paragraph (c)(1) to read as follows:

§ 161.013-11 Prototype test.

* * * * *

(c) * * *

(1) Forward the test results within 30 days to the Commandant (CG-ENG) according to § 159.005-1 of this subchapter; and

* * * * *

79. Revise § 161.013-17 to read as follows:

§ 161.013-17 Manufacturer notification.

Each manufacturer certifying lights in accordance with the specifications of this subpart must send written notice to the Commandant (CG-ENG) according to § 159.005-1 of this subchapter within 30 days after first certifying the lights and send a new notice every 5 years thereafter as long as it certifies lights.

PART 162—ENGINEERING EQUIPMENT

80. The authority citation for part 162 is revised to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; DHS Delegation 00170.1, Revision No. 01.4.

81. Add § 162.017-0 to read as follows:

§ 162.017-0 Preemptive effect.

The regulations in this part have preemptive effect over State or local regulations in the same field.

82. Revise § 162.017-1 to read as follows:

§ 162.017-1 Incorporation by reference.

Certain material is incorporated by reference into this part with the approval of the Director of the Federal Register under 5 U.S.C. 552(a) and 1 CFR part 51. All approved incorporation by reference (IBR) material is available for inspection at the Coast Guard and at the National Archives and Records Administration (NARA). Contact Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, visit www.archives.gov/federal-register/cfr/ibr-locations.html or email fr.inspection@nara.gov. The material may be obtained from the International Organization for Standardization (ISO), ISO Central Secretariat, Chemin de Blandonnet 8. CP 401—1214 Vernier, Geneva, Switzerland; phone 41 22 749 01 11; www.iso.org/contact-iso.html.

(a) ISO 15364:2021(E), Ships and Marine Technology—Pressure-vacuum valves for cargo tanks and devices to prevent the passage of flame into cargo tanks, Fourth Edition, February 2021 (“ISO 15364”); IBR approved for § 162.017-3(r).

(b) [Reserved]

§ 162.017-2 [Amended]

83. Amend § 162.017-2 by removing the word “inflammable” and adding it its place the word “flammable”.

84. Amend § 162.017-3 by revising paragraphs (g), (n), and (r) to read as follows:

§ 162.017-3 Materials, construction, and workmanship

* * * * *

(g) The design and construction of the valves must permit maintenance without removal from the line.

* * * * *

(n) Double flame screens of 20 × 20 corrosion-resistant wire mesh with a ½-inch corrosion-resistant separator, or a single screen of 30 × 30 corrosion-resistant wire mesh, shall be fitted on all openings to atmosphere. The net free area through the flame screens shall not be less than 1½ times the cross-sectional area of the vent inlet from the cargo tanks.

* * * * *

(r) Pressure-vacuum relief valves constructed in accordance with ISO 15364 (incorporated by reference; see § 162.017-1) meet the requirements of this subpart and are eligible to receive approval by submitting an application in accordance with § 162.017-6.

85. Amend § 162.017-6:

a. By revising paragraph (a);

b. In paragraph (b), by removing the words “in quadruplicate”; and

c. In paragraph (c), by removing the text “, by the Underwriters' Laboratories, the Factory Mutual Laboratories, or”.

The revision reads as follows.

§ 162.017-6 Procedure for approval.

(a) General. Applications for approval must be submitted to the Commanding Officer, U.S. Coast Guard Marine Safety Center. Applications may be submitted electronically, by mail or in-person. Mail or in-person submissions may be delivered to U.S. Coast Guard Stop 7430, 2703 Martin Luther King Jr. Avenue SE, Washington, DC 20593-7430. Information for submitting applications electronically can be found at https://www.uscg.mil/HQ/MSC.

* * * * *

86. Amend § 162.050-15 by revising paragraph (a) to read as follows:

§ 162.050-15 Designation of facilities.

(a) Each request for designation as a facility authorized to perform approval tests must be submitted to the Commandant (CG-ENG) according to § 159.005-1 of this subchapter.

* * * * *

87. Amend § 162.060-40 by revising paragraph (b) to read as follows:

§ 162.060-40 Requirements for Independent Laboratories (ILs).

* * * * *

(b) Each request for designation as an independent laboratory authorized under paragraph (a) of this section must be submitted to the Commandant (CG-ENG) according to § 159.005-1 of this subchapter.

* * * * *

PART 163—CONSTRUCTION

88. The authority citation for part 163 is revised to read as follows:

Authority: 46 U.S.C. 3306, 3703, 5115; E.O. 12234, 45 FR 58801, 3 CFR, 1980 Comp., p. 277; DHS Delegation 00170.1, Revision No. 01.4.

Subpart 163.002—[Removed and Reserved]

89. Remove and reserve subpart 163.002, consisting of §§ 163.002-1 through 163.002-27.

PART 164—MATERIALS

90. The authority citation for part 164 is revised to read as follows:

Authority: 46 U.S.C. 3306, 3703, 4302; E.O. 12234, 45 FR 58801, 3 CFR, 1980 Comp., p. 277; DHS Delegation 00170.1, Revision No. 01.4.

91. Amend § 164.009-9 by revising paragraph (a) to read as follows:

§ 164.009-9 Procedure for approval.

(a) An application for approval of a material under this subpart must be submitted to the Commandant (CG-ENG) according to § 159.005-1 of this subchapter.

* * * * *

92. Amend § 164.018-7 by revising paragraph (a) and in paragraph (b)(2), by removing the words “Two copies of plans” and adding in their place the word “Plans”.

The revision reads as follows:

§ 164.018-7 Approval procedures.

(a) An application for approval of retroreflective material must be submitted to the Commandant (CG-ENG) according to § 159.005-1 of this subchapter.

* * * * *

§ 164.106-3 [Amended]

93. Amend § 164.106-3 by removing the text “Part 6” and adding in its place the text “Part 5” in paragraph (a).

Subpart 164.120—[Removed and Reserved]

94. Remove and reserve subpart 164.120, consisting of §§ 164.120-1 through 164.120-15.

§ 164.137-2 [Amended]

95. Amend § 164.137-2 by removing and reserving paragraph (b)(2).

96. Amend § 164.137-3 by revising paragraph (a) to read as follows:

§ 164.137-3 Testing, marking, and inspection requirements.

(a) Windows submitted for type approval must be tested for fire resistance under Annex 1, Part 3 of the FTP Code (incorporated by reference, see § 164.137-2). Windows must also meet the thermal radiation test supplement to fire resistance, and hose stream test supplement, as outlined in Appendix 1 of Part 3 of the FTP Code.

* * * * *

97. Revise § 164.138-2 to read as follows:

§ 164.138-2 Incorporation by reference.

Certain material is incorporated by reference into this subpart with the approval of the Director of the Federal Register under 5 U.S.C. 552(a) and 1 CFR part 51. All approved incorporation by reference (IBR) material is available for inspection at the Coast Guard and at the National Archives and Records Administration (NARA). Contact Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, visit www.archives.gov/federal-register/cfr/ibr-locations.html or email fr.inspection@nara.gov. The material may be obtained from the International Maritime Organization (IMO) Publishing, 4 Albert Embankment, London SE1 7SR, United Kingdom, +44 (0)20 7735 7611, www.imo.org.

(a) 2010 FTP, International Code for Application of Fire Test Procedures, 2010 (Resolution MSC.307(88)), 2012 Edition (“FTP Code”); IBR approved for § 164.138-3(a).

(b) [Reserved]

98. Amend § 164.138-3 by revising paragraph (a) to read as follows:

§ 164.138-3 Testing, marking, and inspection requirements.

(a) Fire stops (penetration seals) submitted for type approval must be tested for fire resistance under Annex 1, Part 3 of the FTP Code (incorporated by reference, see § 164.138-2), including testing in accordance with Part 3, Appendix 3 and Appendix 4.

* * * * *

99. Revise § 164.139-2 to read as follows:

§ 164.139-2 Incorporation by reference.

Certain material is incorporated by reference into this subpart with the approval of the Director of the Federal Register under 5 U.S.C. 552(a) and 1 CFR part 51. All approved incorporation by reference (IBR) material is available for inspection at the Coast Guard and at the National Archives and Records Administration (NARA). Contact Coast Guard at: Commandant (CG-ENG-4), U.S. Coast Guard Stop 7509, 2703 Martin Luther King Jr. Avenue SE, Washington, DC 20593-7509; email typeapproval@uscg.mil or visit www.dco.uscg.mil/CG-ENG-4/. For information on the availability of this material at NARA, visit www.archives.gov/federal-register/cfr/ibr-locations.html or email fr.inspection@nara.gov. The material may be obtained from International Maritime Organization (IMO) Publishing, 4 Albert Embankment, London SE1 7SR, United Kingdom, +44 (0)20 7735 7611, www.imo.org.

(a) 2010 FTP Code, International Code for the Application of Fire Test Procedures, 2010 (Resolution MSC.307(88)), 2012 Edition (“FTP Code”); IBR approved for § 164.139-3(a).

(b) [Reserved]

100. Amend § 164.139-3 by revising paragraph (a) to read as follows:

§ 164.139-3 Testing, marking, and inspection requirements.

(a) Automatic fire dampers that are installed in A-class divisions that are submitted for type approval must be tested for fire resistance under Annex 1, Part 3 of the FTP Code (incorporated by reference, see § 164.139-2), including testing in accordance with Appendix 2.

* * * * *

PART 167—PUBLIC NAUTICAL SCHOOL SHIPS

101. The authority citation for part 167 is revised to read as follows:

Authority: 46 U.S.C. 3306, 3307, 6101, 8105; E.O. 12234, 45 FR 58801, 3 CFR, 1980 Comp., p. 277; DHS Delegation 00170.1, Revision No. 01.4.

102. Revise and republish § 167.45-40 to read as follows:

§ 167.45-40 Fire-fighting equipment on nautical school ships using oil as fuel.

Steam-propelled nautical school ships burning oil for fuel shall be fitted with the fire-fighting equipment of the following type and quantity:

(a) In each boiler room and in each of the machinery spaces of a nautical school ship propelled by steam, in which a part of the fuel-oil installation is situated, two or more approved 40-B fire extinguishers must be placed where accessible and ready for immediate use. On a nautical school ship of 1,000 gross tons and under, only one is required.

(b) In boiler and machinery spaces, at least two fire hydrants must have a firehose of a length that allows each part of the boiler and machinery spaces to be reached by water from a combination solid stream and water spray firehose nozzle.

(c) Each firehose under paragraph (b) of this section must have a combination solid stream and water spray firehose nozzle that meets subpart 162.027 of this chapter. Combination nozzles and low-velocity water spray applicators previously approved under subpart 162.027 of this chapter may remain so long as they are maintained in good condition to the satisfaction of the Officer in Charge, Marine Inspection.

(d) On every steam propelled nautical school ship of over 1,000 gross tons having one boiler room there shall be provided one 160-B fire extinguisher. If the nautical school ship has more than one boiler room, an extinguisher of the above type shall be provided in each boiler room. On every steam-propelled nautical school ship of 1,000 gross tons and under, a 120-B fire extinguisher may be used. Extinguishers fitted shall be equipped with suitable hose and nozzles on reels or other practicable means for easy access, and of sufficient length to reach any part of the boiler room and spaces containing oil-fuel pumping units.

(e) All nautical school ships propelled by internal-combustion engines shall be equipped with the following fire extinguishers in the machinery spaces:

(1) One 120-B fire extinguisher.

(2) One 40-B extinguisher for each 1,000 BHP of the main engines, or fraction thereof. The total number of fire extinguishers carried shall not be less than two and not more than six.

(3) When a donkey boiler fitted to burn oil as fuel is located in the machinery space, there shall be a 160-B fire extinguisher installed instead of the 120-B fire extinguisher.

(f) In this section, any reference to a fire extinguisher means approved by the Coast Guard.

§ 167.45-60 [Amended]

103. Amend § 167.45-60 by removing the text “the Mine Safety and Health Administration (MSHA) and by” in paragraph (a).

104. Revise § 167.45-65 to read as follows:

§ 167.45-65 Portable fire extinguishers in accommodation spaces.

All nautical school ships shall be provided with such number of good and efficient portable fire extinguishers approved by the Coast Guard as follows:

(a) Nautical school ships less than 150 feet in length shall have at least two 2-A fire extinguishers on each passenger deck.

(b) Nautical school ships 150 feet and over in length shall be provided with at least one 2-A fire extinguisher for every 150 linear feet of corridor length or fraction thereof in the spaces occupied by passengers and crew.

(c) In all public spaces fire extinguishers shall be located not more than 150 feet apart.

105. Revise § 167.45-70 to read as follows:

§ 167.45-70 Portable fire extinguishers, general requirements.

(a) Fire extinguishers shall be located in such places as in the judgment of the Officer in Charge, Marine Inspection, will be most convenient and serviceable in case of emergency and so arranged that they may be easily removed from their fastenings.

(b) Every fire extinguisher provided shall be examined at each annual inspection to determine that it is still in good condition. Soda-and-acid and foam fire extinguishers shall be tested by discharging the contents, cleaning thoroughly, and then refilling. Carbon dioxide fire extinguishers shall be checked by weighing to determine contents and if found to be more than 10 percent under required contents of carbon dioxide shall be recharged. Pump tank fire extinguishers shall be tested by pumping and discharging the contents, cleaning thoroughly, and then refilling or recharging. Cartridge-operated type fire extinguishers shall be checked by examining the extinguishing agents to determine if it is still in good condition and by examining the pressure cartridge. If the cartridge end is punctured, or if the cartridge is otherwise determined to have leaked or to be in an unsuitable condition, the pressure cartridge shall be rejected and a new one inserted. Stored pressure type extinguishers shall be checked by determining that the pressure gauge is in the operating range, and the full charge of extinguishing agent is in the chamber. The hoses and nozzles of all fire extinguishers shall be inspected to see that they are clear and in good condition.

(c) In addition to the required extinguishers in this part, each vessel must carry no less than 10 percent spare extinguishers or charges for each size and variety of fire extinguisher, with a minimum of one for each size and variety of extinguisher.

106. Add § 167.45-71 to read as follows:

§ 167.45-71 Exemptions to the requirements of portable fire extinguishers required for vessels constructed before August 22, 2016.

Vessels contracted for before August 22, 2016, must meet the following requirements:

(a) Previously installed portable and semi-portable fire extinguishers with extinguishing capacities smaller than what is required in this part need not be replaced and may be continued in service so long as they are maintained in good condition to the satisfaction of the Officer in Charge, Marine Inspection.

(b) All new equipment and installations must meet the applicable requirements in this part for new vessels.

§ 167.45-75 [Amended]

107. Amend § 167.45-75 by removing the words “or the Navy” after the words “approved by the Coast Guard”.

PART 169—SAILING SCHOOL VESSELS

108. The authority citation for part 169 is revised to read as follows:

Authority: 33 U.S.C. 1321(j); 46 U.S.C. 3306, 6101; Pub. L. 103-206, 107 Stat. 2439; E.O. 11735, 38 FR 21243, 3 CFR, 1971-1975 Comp., p. 793; DHS Delegation 00170.1, Revision No. 01.4; § 169.117 also issued under the authority of 44 U.S.C. 3507.

109. Amend § 169.567:

a. In paragraph (a) introductory text, by removing the text “Table 169.567(a) of this section” and adding in its place the text “table 1 to § 169.567(a)”;

b. Redesignating the table 169.567(a) as table 1 to § 169.567(a);

c. Revising and republishing table 1 to § 169.567(a); and

d. In paragraph (b), by removing the text “Table 169.567(a) of this section” and adding in its place the text “Table 1 to § 169.567(a)”.

The revision reads as follows:

§ 169.567 Portable fire extinguishers.

(a) * * *

Table 1 to § 169.567(a)—Required Portable Fire Extinguishers
Space | Portable fire extinguishers: Minimum required rating | Portable fire extinguishers: Quantity and location
Propulsion machinery space without fixed extinguishing system | 40-B:C | 2.
Propulsion machinery space with fixed extinguishing system | 40-B:C | 1 in the vicinity of the exit.
Living space and open boats | 2-A | 1 per 1,000 cubic foot of space.
Galley (without fixed system) | 40-B:C | 1 per 500 cubic foot.
Spare Units | 2-A | 10 percent of the required number rounded up.
| 40-B:C | 10 percent of the required number rounded up.

* * * * *

110. Add § 169.568 to read as follows:

§ 169.568 Exemptions to the requirements of portable fire extinguishers required for vessels constructed before August 22, 2016.

Vessels contracted for before August 22, 2016, must meet the following requirements:

(a) Previously installed portable and semi-portable fire extinguishers with extinguishing capacities smaller than what is required in this subpart need not be replaced and may be continued in service so long as they are maintained in good condition to the satisfaction of the Officer in Charge, Marine Inspection.

(b) All new equipment and installations must meet the applicable requirements in this part for new vessels.

111. Amend § 169.717 by revising paragraph (a)(1) to read as follows:

§ 169.717 Fireman's outfit.

* * * * *

(a) * * *

(1) One pressure-demand, open-circuit, self-contained breathing apparatus, approved by the National Institute for Occupational Safety and Health (NIOSH) and having at a minimum a 30-minute air supply and a full facepiece; but a self-contained compressed-air breathing apparatus previously approved under part 60, subpart 160.011, of this chapter may continue in use as required equipment if it was part of the vessel's equipment on November 23, 1992, and as long as it is maintained in good condition to the satisfaction of the Officer in Charge, Marine Inspection;

* * * * *

PART 181—FIRE PROTECTION EQUIPMENT

112. The authority citation for part 181 is revised to read as follows:

Authority: 46 U.S.C. 2103, 3306; E.O. 12234, 45 FR 58801, 3 CFR, 1980 Comp., p. 277; DHS Delegation 00170.1, Revision No. 01.4.

113. Amend § 181.500:

a. In paragraph (a), by removing the text “Table 181.500(b)” and adding in its place the text “table 1 to § 181.500(b)”;

b. In paragraph (b), by removing the text “Table 181.500(b) of this section” and adding in its place the text “Table 1 to § 181.500(b)”;

c. By redesignating the table 181.500(b) as table 1 to § 181.500(b); and

d. By revising and republishing table 1 to § 181.500(b).

The revision and republication read as follows:

§ 181.500 Required number, type, and location.

* * * * *

(b) * * *

Table 1 to § 181.500(b)—Required Portable Fire Extinguishers
Space | Portable fire extinguishers: Minimum required rating | Portable fire extinguishers: Quantity and location
Operating Station | 10-B:C | 1.
Machinery Space | 40-B:C | 1 in the vicinity of the exit.
Open Vehicle Deck | 40-B | 1 for every 10 vehicles.
Accommodation Space | 2-A | 1 each for each 2,500 square feet (232.3 square meters) or fraction thereof.
Galley | 40-B:C | 1.
Pantry, concession stand | 2-A | 1 in the vicinity of the exit.

* * * * *

PART 195—VESSEL CONTROL AND MISCELLANEOUS SYSTEMS AND EQUIPMENT

114. The authority citation for part 195 is revised to read as follows:

Authority: 46 U.S.C. 2113, 3306, 3307; 49 U.S.C. App. 1804; E.O. 12234, 45 FR 58801, 3 CFR, 1980 Comp., p. 277; DHS Delegation 00170.1, Revision No. 01.4.

§ 195.40-1 [Amended]

115. Amend § 195.40-1 by removing paragraph (h).

PART 199—LIFESAVING SYSTEMS FOR CERTAIN INSPECTED VESSELS

116. The authority citation for part 199 is revised to read as follows:

Authority: 46 U.S.C. 3306, 3703; Pub. L. 103-206, 107 Stat. 2439; DHS Delegation 00170.1, Revision No. 01.4.

117. Amend § 199.190 by revising paragraph (j) to read as follows:

§ 199.190 Operational readiness, maintenance, and inspection of lifesaving equipment.

* * * * *

(j) Maintenance of falls. Each fall used in a launching appliance must—

(1) Be inspected annually with special regard for areas passing though sheaves; and

(2) Be renewed when necessary due to deterioration or at intervals of not more than 5 years, whichever is earlier.

* * * * *

Dated: September 5, 2024.
W.R. Arguin,
Rear Admiral, U.S. Coast Guard, Assistant Commandant for Prevention Policy.

[FR Doc. 2024-20380 Filed 9-17-24; 8:45 am]

BILLING CODE 9110-04-P